DEPARTMENT OF HOUSING AND URBAN DEVELOPMENT

[Docket No. FR-5300-N-01]

Notice of HUD's Fiscal Year (FY) 2009 Notice of Funding Availability (NOFA); Policy Requirements and General Section to HUD's FY2009 NOFAs for Discretionary Programs

AGENCY: Office of the Secretary, HUD.

ACTION: Notice of HUD's FY2009 NOFA Policy Requirements and General Section to HUD's FY2009 NOFAs for Discretionary Programs (notice).

SUMMARY: This notice provides prospective applicants for HUD's competitive funding with the opportunity to become familiar with the General Section of HUD's FY2009 NOFAs, in advance of publication of any FY2009 NOFAs. This year, HUD plans to publish its NOFAs as they are approved for publication and not in a combined SuperNOFA. HUD believes that by making this change, the NOFAs will be available earlier in the fiscal year. To assist applicants in this transformation, HUD is publishing the anticipated schedule for release of HUD's FY2009 NOFAs in Appendix A. The information regarding NOFA programs and schedules is subject to the availability of appropriations. As HUD receives appropriations, HUD may elect to amend the anticipated dates, estimated funds available, and/or program requirements that may appear in the published NOFAs to reflect HUD's FY2009 appropriations act, when enacted by Congress. Any amendment to HUD published NOFAs will be made available to the public through a Federal Register publication and published on http://www.grants.gov. Applicants are urged to sign up for Grants.gov's RSS Feed service to receive any changes to this General Section to HUD's FY2009 NOFAs. Information about the RSS Feed Service can be found at http://www07.grants.gov/help/rss.jsp. Detailed instructions on use of the RSS Feed can be found later in this General Section.

Applicants are advised to become familiar with the requirements of this General Section, particularly with applicant Grants.gov registration requirements and submission instructions. Submission instructions must be adhered to in order to have a successful submission. Applicants are also advised to provide copies of the General Section to all persons that will be working on the application. HUD has found too often that the Program Section and the application are passed along, but not the General Section instructions; thus placing Authorized Organization Representatives (AORs) at a disadvantage in not having all the information needed for submission.

HUD will continue to require that applicants submit their applications electronically via Grants.gov. In FY2008, HUD switched to Adobe Forms application packages, available on Grants.gov. The Adobe Forms packages take more processing power, are larger in size, and use more memory than the earlier packages used by Grants.gov. Applicants are advised to pay careful attention to the submission instructions contained in this notice. Failure to do so will result in difficulty in uploading your application and “VirusDetect” rejection notices. The Adobe Forms packages are compatible with Windows XP Windows and Windows Vista operating systems, Apple Macintosh computers, and Microsoft Office 2007. Please carefully read the instructions in this notice regarding use of Adobe Forms.

To submit an application via Grants.gov, new users will be required to complete a five-step registration process, which can take 2 to 4 weeks to complete. The process includes ensuring that information provided for the applicant organization to Dun and Bradstreet (D&B) for your DUNS number matches information previously provided by your organization and contained in Internal Revenue Service (IRS) records. If there is a discrepancy in the information, the registration cannot be completed until discrepancy issues are resolved. Applicants that have previously completed the registration process have to renew or update their registration in the Central Contractor Registration (CCR). The renewal/update process confirms that the registration information is still accurate and allows organizations to make any appropriate changes. During the renewal/update process, the CCR will check the D&B information against the IRS records for the applicant organization. If there are discrepancies, the renewal/update cannot be completed until the discrepancies are resolved. Please allow adequate time to resolve any registration issues. Failure to complete the renewal/update process in the CCR before the CCR registration expires will result in an applicant having to repeat the five steps of the registration process. If an applicant changes the eBusiness Point of Contact in the CCR registration, it should make sure the new eBusiness Point of Contact has also granted permission to the person submitting the application to be the AOR. To submit an eligible application to HUD, the AOR must be able to enter into a legally binding agreement on behalf of the organizational entity. Please see detailed registration instructions in Section IV.B. of this notice.

HUD recommends that all prospective applicants take the time to carefully read the notice entitled “Notice of Opportunity to Register Early and other Important Information for Electronic Application Submission via Grants.gov,” published on December 5, 2008 (73 FR 74179). This notice is also available on HUD's Web site at http://www.hud.gov/offices/adm/grants/fundsavail.cfm and on http://www.Grants.gov. HUD's Early Registration notice provides step-by-step instructions for applicants who must register with Grants.gov and also provides renewal/update instructions for those who have previously registered. Prospective applicants should register or update their registration information upon publication of this notice so you are prepared when the Program Section NOFAs are published. Please note that the Continuum of Care application is submitted through the HUD eSNAPS system, not Grants.gov. Submission instructions for the eSNAPs applications will be contained in the NOFA for the Continuum of Care program. Notification of the availability of the Continuum of Care NOFA and FY2009 application, and other information, will be released via the Grants.gov Web site. HUD does not maintain a mailing list with the exception of the Continuum of Care listserv for the Continuum of Care applicant community. To join the HUD homeless assistance program listserv, go to http://www.hud.gov/subscribe/signup.cfm?listname=Homeless%20Assistance%20Program&list=HOMELESS-ASST-L.

FOR FURTHER INFORMATION CONTACT: For further information on HUD's FY2009 Policy Requirements and General Section, contact the Office of Departmental Grants Management and Oversight, Office of Administration, Department of Housing and Urban Development, 451 7th Street, SW., Room 3156, Washington, DC 20410-5000; telephone number 202-708-0667. This is not a toll-free number. Persons with hearing or speech impairments may access this number via TTY by calling the Federal Information Relay Service at 800-877-8339.

SUPPLEMENTARY INFORMATION: Each year, HUD strives to improve its competitive funding process. To help applicants with electronic application registration and submission, HUD is updating its Desktop User Guide for Submitting Electronic Grant Applications. The user guide will provide step-by-step details and screen shots of the entire registration and application submission process, including troubleshooting application submission errors. HUD updates the guide regularly and it will be available at http://www.hud.gov/offices/adm/grants.

HUD believes that early publication of the General Section is beneficial to prospective applicants by providing advance notice of the Department's threshold requirements, strategic goals, policy priorities, and other requirements applicable to almost every individual NOFA published by the Department. The General Section is structured to refer the reader to the individual program NOFAs. Although program NOFAs are not being published at this time, the references are retained. Likewise, when program NOFAs are published they will contain references to the General Section. The General Section and Program Sections comprise the NOFA instructions. Forms and narratives are used by the applicants to address the requirements contained in the instructions. When the Program Sections of the FY2009 NOFAs are published, they will be consistent with the General Section.

HUD is always interested in improving its application processes. You can help HUD improve its outreach and program NOFAs by providing feedback on ways it can improve the NOFA process. Please note that each application contains a “You Are Our Client!” questionnaire. HUD requests that you respond to this survey to let the Department know what improvements have been beneficial and to share your ideas on where improvements can continue to be made. HUD carefully considers the comments received from its clients and strives to use the comments to improve each year's NOFAs and the funding process.

This publication includes a list of programs for which NOFAs are anticipated to be published in FY2009, subject to the availability of funds. Any changes to the listing will be identified in each published program NOFA. Any changes to this General Section will be published as Technical Corrections in the Federal Register and on http://www.Grants.gov.

HUD hopes that the information contained in this General Section, and in other publications designed to assist applicants requesting funds via electronic application, is helpful to you, our applicants.

Dated: December 17, 2008.
Roy A. Bernardi,
Deputy Secretary.

Overview Information

A. Federal Agency Name: Department of Housing and Urban Development (HUD), Office of the Secretary.

B. Funding Opportunity Title: Policy requirements applicable to all HUD Notices of Funding Availability (NOFAs) published during FY2009.

C. Announcement Type: Initial announcement of the general policy requirements that apply to all HUD federal financial assistance NOFAs for FY2009.

D. Funding Opportunity Number: FR-5300-N-01.

E. Catalog of Federal Domestic Assistance (CFDA) Number: A CFDA number is provided for each HUD federal financial assistance program. When using “Apply Step 1” on the Grants.gov Web site to download an application, you will be asked for the CFDA number. Please refer to the CFDA number in the Grants.gov synopsis of the programs for which you wish to apply. The CFDA number is a key data element used for the application search feature of Grants.gov. Use only the CFDA number, the Funding Competition Identification Number, or the Funding Opportunity Number, when searching Grants.gov. Using more than one of these items will result in an error message indicating that the opportunity cannot be found.

F. Dates: The deadline dates that apply to the federal financial assistance made available through HUD's FY2009 NOFAs will be found in the published NOFAs. Appendix A to this General Section lists the programs expected to be included in HUD's FY2009 NOFAs, and their anticipated publication time frame.

G. Additional Overview Content Information: Unless otherwise stated, HUD's general policy requirements set forth in this notice apply to all HUD federal financial assistance made available through HUD's FY2009 NOFAs. These policies cover all NOFAs issued for FY2009 funding.

Full Text of Announcement

I. Funding Opportunity Description

This notice describes HUD's FY2009 policy requirements applicable to all of HUD's NOFAs published in FY2009. Each published NOFA will contain a description of the specific requirements for the program for which funding is made available and each will refer to applicable policies described in this General Section. Each program NOFA will also describe additional procedures and requirements that apply to the individual program NOFA, including a description of the eligible applicants, eligible activities, threshold requirements, factors for award, variations from the General Section requirements, and any additional program requirements or limitations. To adequately address all of the application requirements for any program for which you intend to apply, please carefully read and respond to both this General Section and the individual program NOFAs.

Authority. HUD's authority for making funding available under its FY2009 programs is identified in each program NOFA.

II. Award Information

Funding Available. Each program NOFA will identify the estimated amount of funds available in FY2009 based on anticipated or available appropriations, plus any funds from previous years available for award in FY2009. Appendix A to this General Section lists the programs HUD expects to issue NOFAs for in FY2009.

Additional program NOFAs may be published during FY2009. Any additional funding opportunities will be made available on http://www.Grants.gov and the Federal Register.

III. Eligibility Information

A. Eligible Applicants. The individual program NOFAs describe the eligible applicants and eligible activities for each program. Applicants should be aware that HUD does not directly fund individuals through its competitive NOFA process.

B. Cost Sharing or Matching. The program NOFAs describe the applicable cost sharing, matching requirements, or leveraging requirements related to each program, if any. Although matching or cost sharing may not be required, HUD programs often encourage applicants to leverage grant funds with other funding to receive higher rating points.

It is important to note that the following Office of Management and Budget (OMB) circulars are applicable, and particular attention should be given to the provisions concerning the use of federal funds for matching requirements.

OMB Circular A-102 (Grants and Cooperative Agreements with State and Local Governments) establishes consistency and uniformity among federal agencies in the management of grants and cooperative agreements with state, local, and federally recognized Indian tribal governments. The circular provides that state and local administration of federal funds must include fiscal and administrative requirements that are sufficiently specific to ensure that funds are used in compliance with all applicable federal statutory and regulatory provisions, costs are reasonable and necessary for operating these programs, and funds are not to be used for general expenses required to carry out other responsibilities of a state or its subrecipients. HUD's implementation of OMB Circular A-102 is found at 24 CFR part 85.

OMB Circular A-110 (Uniform Administrative Requirements for Grants and Agreements with Institutions of Higher Education, Hospitals, and Other Non-Profit Organizations) sets forth standards for obtaining consistency and uniformity among federal agencies in the administration of grants and agreements with institutions of higher education, hospitals, and other nonprofit organizations. This circular specifies the conditions for which funds may be used for cost sharing or matching and provides that federal funds shall not be accepted as cost sharing or matching, except where authorized by federal statute to be used for cost sharing or matching. HUD's implementation of OMB Circular A-110 is found at 24 CFR part 84.

OMB Circular A-87 (2 CFR Part 225) (Cost Principles for State, Local, and Indian Tribal Governments) establishes principles and standards for determining costs for federal awards carried out through grants, cost reimbursement contracts, and other agreements with state and local governments and federally recognized Indian tribal governments (governmental units). This circular provides that an allowable cost under a federal award does not include a cost sharing or matching requirement of any other federal award in the applicable funding period, except as specifically provided by federal law or regulation.

OMB Circular A-122 (2 CFR 230) (Cost Principles for Non-Profit Organizations) establishes principles for determining costs of grants, contracts, and other agreements with nonprofit organizations. This circular provides, similar to OMB Circular A-87, that an allowable cost under a federal award in the applicable funding period does not include a cost sharing or matching requirement of any other federally financed program.

Note: Applicants for funding under HUD's FY2009 NOFA are reminded of the importance of confirming that any federal grant funds that they intend to use as a cost sharing or matching share are available to be used as matching funds under applicable statutes and regulations.

C. Other Requirements and Procedures Applicable to All Programs. Except as may be modified in the individual program NOFAs, the requirements, procedures, and principles listed below apply to all HUD programs in FY2009 for which funding is announced by NOFA and published in the Federal Register. Please read the individual program NOFAs for additional requirements and information.

1. Statutory and Regulatory Requirements. To be eligible for funding under HUD NOFAs issued during FY2009, applicants must meet all statutory and regulatory requirements applicable to the program or programs for which they seek funding. Applicants requiring program regulations may obtain them from the NOFA Information Center or through HUD's grants Web site at http://www.hud.gov/offices/adm/grants/fundsavail.cfm. See the individual program NOFAs for instructions on how HUD will respond to proposed activities that are ineligible.

2. Threshold Requirements.

a. Ineligible Applicants. HUD will not consider an application from an ineligible applicant.

b. Dun and Bradstreet Data Universal Numbering System (DUNS) Number Requirement. All applicants seeking funding directly from HUD must obtain a DUNS number and include the number in their Application for Federal Assistance submission. Failure to provide a DUNS number will prevent an applicant from obtaining an award, regardless of whether it is a new award or renewal of an existing one. This policy is pursuant to the OMB policy issued in the Federal Register on June 27, 2003 (68 FR 38402). HUD published its regulation implementing the DUNS number requirement on November 9, 2004 (69 FR 65024). A copy of the OMB Federal Register notice and HUD's regulation implementing the DUNS number can be found on HUD's Web site at http://www.hud.gov/offices/adm/grants/duns.cfm. When registering with Dun and Bradstreet, please be sure to use the organization's legal name that is used when filing a return with or making payments to the Internal Revenue Service. Organizations should also provide the zip code using the zip code plus the four additional digits. The DUNS number used in the application must be for the applicant organization, not the entity submitting the application on behalf of the applicant.

c. Compliance with Fair Housing and Civil Rights Laws.

(1) With the exception of federally recognized Indian tribes and their instrumentalities, applicants must comply with all applicable fair housing and civil rights requirements in 24 CFR 5.105(a). If you are a federally recognized Indian tribe, you must comply with the nondiscrimination provisions enumerated at 24 CFR 1000.12, as applicable. In addition to these requirements, there may be program-specific threshold requirements identified in the individual program NOFAs.

(2) If you, the applicant:

(a) Have been charged with an ongoing systemic violation of the Fair Housing Act; or

(b) Are a defendant in a Fair Housing Act lawsuit filed by the Department of Justice alleging an ongoing pattern or practice of discrimination; or

(c) Have received a letter of findings identifying ongoing systemic noncompliance under Title VI of the Civil Rights Act of 1964, section 504 of the Rehabilitation Act of 1973, or section 109 of the Housing and Community Development Act of 1974, and the charge, lawsuit, or letter of findings referenced in subparagraphs (a), (b), or (c) above has not been resolved to HUD's satisfaction before the application deadline, then you are ineligible and HUD will not rate and rank your application. HUD will determine if actions to resolve the charge, lawsuit, or letter of findings taken before the application deadline are sufficient to resolve the matter.

Examples of actions that would normally be considered sufficient to resolve the matter include, but are not limited to:

(i) A voluntary compliance agreement signed by all parties in response to a letter of findings;

(ii) A HUD-approved conciliation agreement signed by all parties;

(iii) A consent order or consent decree; or

(iv) An issuance of a final judicial ruling or a HUD Administrative Law Judge's decision.

d. Conducting Business in Accordance with Core Values and Ethical Standards/Code of Conduct. Applicants subject to 24 CFR parts 84 or 85 (most nonprofit organizations and state, local, and Indian tribal governments or government agencies or instrumentalities that receive federal awards of financial assistance) are required to develop and maintain a written code of conduct (see 24 CFR 84.42 and 85.36(b)(3)). Consistent with regulations governing specific programs, your code of conduct must prohibit real and apparent conflicts of interest that may arise among officers, employees, or agents; prohibit the solicitation and acceptance of gifts or gratuities by your officers, employees, or agents for their personal benefit in excess of minimal value; and outline administrative and disciplinary actions available to remedy violations of such standards. Before entering into an agreement with HUD, an applicant awarded assistance under a HUD program NOFA announced in FY2009 will be required to submit a copy of its code of conduct and describe the methods it will use to ensure that all officers, employees, and agents of its organization are aware of its code of conduct. An applicant is prohibited from receiving an award of funds from HUD if it fails to meet this requirement for a code of conduct. An applicant that previously submitted an application and included a copy of its code of conduct will not be required to submit another copy if the applicant is listed on HUD's Web site http://www.hud.gov/offices/adm/grants/codeofconduct/cconduct.cfm, and if the information has not been revised. An applicant not listed on the Web site must submit a copy of its code of conduct with its FY2009 application for assistance. An applicant must also include a copy of its code of conduct if the information listed on the above Web site has changed (e.g., the person who submitted the previous application is no longer the authorized organization representative, the organization has changed its legal name or merged with another organization, or the address of the organization has changed, etc.). Any applicant that needs to may submit its code of conduct to HUD via facsimile using the form HUD-96011, “Facsimile Transmittal” (“Third Party Documentation Facsimile Transmittal” on Grants.gov) at the time of application submission. This form is available as part of your application package that was downloaded from Grants.gov. When using the facsimile transmittal form, please type the requested information. Use the form HUD-96011 as the cover page for the submission and include the following header in the top line of the form under Name of Document Being Requested: “Code of Conduct for (insert your organization's name, city, and state).” Fax the information to HUD's toll-free number at 800-HUD-1010. If you cannot access the 800 number or have problems, you may use 215-825-8798 (this is not a toll-free number). These are new numbers for FY2009 applications. These facsimile numbers are not those used for FY2008. If you use the wrong fax number, your fax will be entered as part of HUD's FY2008 database. HUD cannot search its FY2008 database to match FY2009 faxes to FY2009 applications. As a result, your application will be reviewed without faxed information if you fail to use the FY2009 fax numbers.

Continuum of Care applicants should follow the directions in the Continuum of Care program NOFA for submission of Codes of Conduct.

e. Delinquent Federal Debts. It is HUD policy, consistent with the purposes and intent of 31 U.S.C. 3720B and 28 U.S.C. 3201(e), that applicants with an outstanding federal debt will not be eligible to receive an award of funds from the Department unless: (1) A negotiated repayment schedule is established and the repayment schedule is not delinquent, or (2) other arrangements satisfactory to HUD are made prior to the award of funds by HUD. If arrangements satisfactory to HUD cannot be completed within 90 days of notification of selection, HUD will not make an award of funds to the applicant, but offer the award to the next eligible applicant. Applicants selected for funding, or awarded funds, must report to HUD changes in status of current agreements covering federal debt. HUD may withhold funding, terminate an award, or seek other remedies from a grantee if a previously agreed-upon payment schedule has not been adhered to or a new agreement with the federal agency to which the debt is owed has not been signed.

f. Pre-Award Accounting System Surveys. HUD may arrange for a pre-award survey of the applicant's financial management system if the recommended applicant has no prior federal support, if HUD's program officials have reason to question whether the applicant's financial management system meets federal financial management standards, or if the applicant is considered a high risk based upon past performance or financial management findings. HUD will not disburse funds to any applicant that does not have a financial management system that meets federal standards. (Please see 24 CFR 84.21 if you are an institution of higher education, hospital, or other nonprofit organization. See 24 CFR 85.20 if you are a state, local government, or federally recognized Indian tribe).

g. Name Check Review. Applicants are subject to a name check review process. Name checks are intended to reveal matters that significantly reflect on the applicant's management and financial integrity, including if any key individual has been convicted or is presently facing criminal charges. If the name check reveals significant adverse findings that reflect on the business integrity or responsibility of the applicant or any key individual, HUD reserves the right to: (1) Deny funding, or in the case of a renewal or continuing award, consider suspension or termination of an award immediately for cause, (2) require the removal of any key individual from association with management or implementation of the award, and (3) make appropriate provisions or revisions with respect to the method of payment or financial reporting requirements.

h. False Statements. A false statement in an application is grounds for denial or termination of an award and possible punishment, as provided in 18 U.S.C. 1001.

i. Prohibition Against Lobbying Activities. Applicants are subject to the provisions of Section 319 of Public Law 101-121 (approved October 23, 1989) (31 U.S.C. 1352) (the Byrd Amendment), which prohibits recipients of federal contracts, grants, or loans from using appropriated funds for lobbying the executive or legislative branches of the federal government in connection with a specific contract, grant, or loan. In addition, applicants must disclose, using Standard Form LLL (SF-LLL), “Disclosure of Lobbying Activities,” any funds, other than federally appropriated funds, that will be or have been used to influence federal employees, members of Congress, or congressional staff regarding specific grants or contracts. Federally recognized Indian tribes and tribally designated housing entities (TDHEs) established by federally recognized Indian tribes as a result of the exercise of the tribe's sovereign power are excluded from coverage of the Byrd Amendment, but state-recognized Indian tribes and TDHEs established only under state law must comply with this requirement. Applicants must submit the SF-LLL if they have used or intend to use federal funds for lobbying activities.

j. Debarment and Suspension. In accordance with 2 CFR part 2424, no award of federal funds may be made to applicants that are presently debarred or suspended, or proposed to be debarred or suspended from doing business with the federal government.

3. Other Threshold Requirements. The individual program NOFAs for which you are applying may specify other threshold requirements. Additional threshold requirements may be identified in the discussion of “eligibility” requirements in the individual program NOFAs. If a program NOFA requires a certification of consistency with the Consolidated Plan and the applicant fails to provide a certification, and such failure is not cured as a technical deficiency, HUD will not fund the application. If HUD is provided a signed certification indicating consistency with the area's approved Consolidated Plan and HUD finds that the activities are not consistent with the Consolidated Plan, HUD will not fund the inconsistent activities or will deny funding the application if a majority of the activities are not consistent with the approved Consolidated Plan. The determination not to fund an activity or to deny funding may be determined by a number of factors, including the number of activities being proposed, the impact of the elimination of the activities on the proposal, or the percent of the budget allocated to the proposed activities.

4. Additional Nondiscrimination and Other Requirements. Applicants and their subrecipients must comply with:

a. Civil Rights Laws, including the Americans with Disabilities Act of 1990 (42 U.S.C. 12101 et seq.), the Age Discrimination Act of 1974 (42 U.S.C. 6101 et seq.), and Title IX of the Education Amendments Act of 1972 (20 U.S.C. 1681 et seq.).

b. Affirmatively Furthering Fair Housing. Under section 808(e)(5) of the Fair Housing Act, HUD has a statutory duty to affirmatively further fair housing. HUD requires the same of its funding recipients. If you are a successful applicant, you will have a duty to affirmatively further fair housing opportunities for classes protected under the Fair Housing Act. Protected classes include race, color, national origin, religion, sex, disability, and familial status. Unless otherwise instructed in the individual program NOFA, your application must include specific steps to:

(1) Overcome the effects of impediments to fair housing choice that were identified in the jurisdiction's Analysis of Impediments (AI) to Fair Housing Choice (See Certification requirements under 24 CFR 91.225);

(2) Remedy discrimination in housing; and

(3) Promote fair housing rights and fair housing choice.

Further, you, the applicant, have a duty to carry out the specific activities provided in your responses to the individual program NOFA rating factors that address affirmatively furthering fair housing. These requirements apply to all HUD programs announced via a NOFA, unless specifically excluded in the individual program NOFA.

c. Economic Opportunities for Low- and Very Low-Income Persons (Section 3). Certain programs to be issued during FY2009 require recipients of assistance to comply with section 3 of the Housing and Urban Development Act of 1968 (Section 3), 12 U.S.C. 1701u (Economic Opportunities for Low- and Very Low-Income Persons in Connection with Assisted Projects), and the HUD regulations at 24 CFR part 135. Review the individual program NOFAs to determine if section 3 applies to the program for which you are seeking funding. Section 3 requires recipients to ensure, to the greatest extent feasible, that training, employment, and other economic opportunities will be directed to low- and very-low income persons, particularly those who are recipients of government assistance for housing, and to business concerns that provide economic opportunities to low- and very low-income persons in the area in which the project is located. The section 3 regulations at 24 CFR part 135, subpart E, impose certain reporting requirements on recipients, including the submission of an annual report, using form HUD-60002 or HUD's online system at http://www.hud.gov/offices/fheo/section3/section3.cfm. Grantees reporting Section 3 activities in paper format should mail the report to: U.S. Department of Housing and Urban Development, Office of Fair Housing and Equal Opportunity, Economic Development Opportunity Division, 451 7th Street, SW., Room 5232, Washington, DC 20410.

The annual report is highly important to the Department in determining compliance with Section 3. Applicants are placed on notice that they are required to annually report section 3 data, as applicable. Failure to meet reporting requirements can result in sanctions such as debarment, suspension, or denial of participation in HUD programs (24 CFR 135.76(g)).

d. Ensuring the Participation of Small Businesses, Small Disadvantaged Businesses, and Women-Owned Businesses. HUD is committed to ensuring that small businesses, small disadvantaged businesses, and women-owned businesses participate fully in HUD's direct contracting and in contracting opportunities generated by HUD financial assistance. Too often, these businesses still experience difficulty accessing information and successfully bidding on federal contracts. State, local, and Indian tribal governments are required by 24 CFR 85.36(e) and nonprofit recipients of assistance (grantees and subgrantees) by 24 CFR 84.44(b) to take all necessary affirmative steps in contracting for the purchase of goods or services to assure that minority firms, women-owned business enterprises, and labor surplus area firms are used whenever possible or as specified in the individual program NOFAs.

e. Real Property Acquisition and Relocation. Except as otherwise provided by federal statute, HUD-assisted programs or projects are subject to the Uniform Relocation Assistance and Real Property Acquisition Policies Act of 1970, as amended (Uniform Act or URA) (42 U.S.C. 4601), and the governmentwide implementing regulations issued by the U.S. Department of Transportation at 49 CFR part 24. The Uniform Act's protections and assistance apply to acquisitions of real property and displacements resulting from the acquisition, rehabilitation, or demolition of real property for federal or federally assisted programs or projects. With certain limited exceptions, real property acquisitions for a HUD-assisted program or project must comply with 49 CFR part 24, subpart B. To be exempt from the URA's acquisition policies, real property acquisitions conducted without the threat or use of eminent domain, commonly referred to as “voluntary acquisitions,” must satisfy the applicable requirements of 49 CFR 24.101(b)(1) through (5). Evidence of compliance with these requirements must be maintained by the recipient. The URA's relocation requirements remain applicable to any tenant who is displaced by an acquisition that meets the requirements of 49 CFR 24.101(b)(1) through (5).

The relocation requirements of the Uniform Act, and its implementing regulations at 49 CFR part 24, cover any person who moves permanently from real property or moves personal property from real property as a direct result of acquisition, rehabilitation, or demolition for a program or project receiving HUD assistance. While there are no statutory provisions for “temporary relocation” under the URA, the URA regulations recognize that there are circumstances where a person will not be permanently displaced but may need to be moved from a project for a short period of time. Appendix A of the URA regulation (49 CFR 24.2(a)(9)(ii)(D)) explains that any tenant who has been temporarily relocated for a period beyond one year must be contacted by the displacing agency and offered URA relocation assistance. Some HUD program regulations provide additional protections for temporarily relocated tenants. For example, 24 CFR 583.310(f)(1) provides guidance on temporary relocation for the Supportive Housing Program for the homeless. Before planning their project, applicants should review the regulations for the programs for which they are applying. Generally, the URA does not apply to displacements resulting from the demolition or disposition of public housing covered by section 18 of the United States Housing Act of 1937.

Additional information and resources pertaining to real property acquisition and relocation for HUD-funded programs and projects are available on HUD's Real Estate Acquisition and Relocation Web site at http://www.hud.gov/relocation. The Web site contains applicable laws and regulations, policy and guidance, publications, training resources, and a listing of HUD contacts to answer questions or otherwise provide assistance.

f. Executive Order 13166, “Improving Access to Services for Persons with Limited English Proficiency (LEP).” Executive Order 13166 seeks to improve access to federally assisted programs and activities for individuals who, as a result of national origin, are limited in their English proficiency. Applicants obtaining federal financial assistance from HUD shall take reasonable steps to ensure meaningful access to their programs and activities to LEP individuals. As an aid to recipients, HUD published Final Guidance to Federal Financial Assistance Recipients Regarding Title VI Prohibition Against National Origin Discrimination Affecting Limited English Proficient Persons (LEP Guidance) in the Federal Register on January 22, 2007 (72 FR 2732). For assistance and information regarding LEP obligations, go to http://www.hud.gov/offices/fheo/promotingfh/lep.cfm. A link to the LEP Guidance can be found on that page.

g. Executive Order 13279, “Equal Protection of the Laws for Faith-Based and Community Organizations.” HUD is committed to full implementation of Executive Order 13279. The Executive Order established fundamental principles and policymaking criteria to guide federal agencies in formulating and developing policies that have implications for faith-based and community organizations, to ensure the equal protection for these organizations in social service programs receiving federal financial assistance. Consistent with this order, HUD has reviewed all Departmental policies and regulations that have implications for faith-based and community organizations and has established a policy priority to provide full and equal access to grassroots faith-based and other community organizations in HUD program implementation. HUD revised its program regulations in 2003 and 2004 to remove the barriers to participation by faith-based organizations in HUD funding programs (68 FR 56396, September 30, 2003; 69 FR 41712, July 9, 2004; and 69 FR 62164, October 22, 2004). Copies of the regulatory changes can be found at http://www.hud.gov/offices/adm/grants/fundsavail.cfm.

h. Accessible Technology. Section 508 of the Rehabilitation Act (Section 508) requires HUD and other federal departments and agencies to ensure, when developing, procuring, maintaining, or using electronic and information technology (EIT), that the EIT allow, regardless of the type of medium, persons with disabilities to access and use information and data on a comparable basis as is made available to and used by persons without disabilities. Section 508's coverage includes, but is not limited to, computers (hardware, software, word processing, e-mail, and Internet sites), facsimile machines, copiers, and telephones. Among other things, Section 508 requires that, unless an undue burden would result to the federal department or agency, EIT must allow individuals with disabilities who are federal employees or members of the public seeking information or services to have access to and use of information and data on a comparable basis as that made available to employees and members of the public who are not disabled. Where an undue burden exists to the federal department or agency, alternative means may be used to allow a disabled individual use of the information and data. Section 508 does not require that information services be provided at any location other than a location at which the information services are generally provided. HUD encourages its funding recipients to adopt the goals and objectives of Section 508 by ensuring, whenever EIT is used, procured, or developed, that persons with disabilities have access to and use of the information and data made available through the EIT on a basis comparable as is made available to and used by persons without disabilities. This does not affect recipients' required compliance with section 504 of the Rehabilitation Act and, where applicable, the Americans with Disabilities Act. Applicants and recipients seeking further information on accessible technology should go to http://www.section508.gov/.

i. Procurement of Recovered Materials. State agencies and agencies of a political subdivision of a state that are using assistance under a HUD program NOFA for procurement, and any person contracting with such an agency with respect to work performed under an assisted contract, must comply with the requirements of section 6002 of the Solid Waste Disposal Act, as amended by the Resource Conservation and Recovery Act.

In accordance with section 6002, these agencies and persons must procure items designated in guidelines of the Environmental Protection Agency (EPA) at 40 CFR part 247 that contain the highest percentage of recovered materials practicable, consistent with maintaining a satisfactory level of competition, where the purchase price of the item exceeds $10,000 or the value of the quantity acquired in the preceding fiscal year exceeded $10,000; must procure solid waste management services in a manner that maximizes energy and resource recovery; and must have established an affirmative procurement program for procurement of recovered materials identified in the EPA guidelines.

j. Participation in HUD-Sponsored Program Evaluation. As a condition of the receipt of financial assistance under a HUD program NOFA, all successful applicants will be required to cooperate with all HUD staff or contractors who perform HUD-funded research or evaluation studies.

k. Executive Order 13202, “Preservation of Open Competition and Government Neutrality Towards Government Contractors' Labor Relations on Federal and Federally Funded Construction Projects.” Compliance with HUD regulations at 24 CFR 5.108 that implement Executive Order 13202 is a condition of receipt of assistance under a HUD program NOFA.

l. Salary Limitation for Consultants. FY2009 funds may not be used to pay or to provide reimbursement for payment of the salary of a consultant at a rate more than the equivalent of General Schedule 15, Step 10.

m. OMB Circulars and Governmentwide Regulations Applicable to Financial Assistance Programs. Certain OMB Circulars (2 CFR 225) also apply to HUD program NOFAs. The policies, guidance, and requirements of OMB Circulars A-87 (Cost Principles Applicable to Grants, Contracts and Other Agreements With State and Local Governments), A-21 (Cost Principles for Education Institutions), A-122 (Cost Principles for Non-Profit Organizations), A-133 (Audits of States, Local Governments, and Non-Profit Organizations), and the regulations at 24 CFR part 84 (Grants and Agreements With Institutions of Higher Education, Hospitals, and Other Non-Profit Organizations), and 24 CFR part 85 (Administrative Requirements for Grants and Cooperative Agreements to State, Local, and Federally Recognized Indian Tribal Governments) may apply to the award, acceptance, and use of assistance under the individual program NOFAs, and to the remedies for noncompliance, except when inconsistent with the provisions of HUD's Appropriations Act for FY2009, other federal statutes or regulations, or the provisions of this notice. Compliance with additional OMB circulars or governmentwide regulations may be specified for a particular program in the Program Section NOFA. Copies of the OMB circulars may be obtained from http://www.whitehouse.gov/omb/circulars/index.html, or the Executive Office of the President Publications, New Executive Office Building, Room 2200, Washington, DC 20503; telephone number 202-395-3080 (this is not a toll-free number). Individuals with speech or hearing impairments may access this number by dialing 800-877-8339 (toll-free TTY Federal Information Relay Service).

n. Environmental Requirements. If you become a recipient under a HUD program that assists in physical development activities or property acquisition, you are generally prohibited from acquiring, rehabilitating, converting, demolishing, leasing, repairing, or constructing property, or committing or expending HUD or non-HUD funds for these types of program activities, until one of the following has occurred:

(1) HUD has completed an environmental review in accordance with 24 CFR part 50; or

(2) For programs subject to 24 CFR part 58, HUD has approved a recipient's Request for Release of Funds (form HUD-7015.15) following a responsible entity's completion of an environmental review.

You, the applicant, should consult the individual program NOFA for any program for which you are interested in applying to determine the procedures for, timing of, and any modifications or exclusions from environmental review under a particular program.

o. Conflicts of Interest. If you are a consultant or expert who is assisting HUD in rating and ranking applicants for funding under HUD NOFAs published in FY2009, you are subject to 18 U.S.C. 208, the federal criminal conflict-of-interest statute, and the Standards of Ethical Conduct for Employees of the Executive Branch regulation published at 5 CFR part 2635. As a result, if you have assisted or plan to assist applicants with preparing applications for NOFAs published in FY2009, you may not serve on a selection panel and you may not serve as a technical advisor to HUD. Persons involved in rating and ranking HUD FY2009 NOFAs, including experts and consultants, must avoid conflicts of interest or the appearance of such conflicts. Persons involved in rating and ranking applications must disclose to HUD's General Counsel or HUD's Ethics Law Division the following information, if applicable, how the selection or non-selection of any applicant under FY2009 NOFAs will affect the individual's financial interests, as provided in 18 U.S.C. 208, or how the application process involves a party with whom the individual has a covered relationship under 5 CFR 2635.502. The person must disclose this information before participating in any matter regarding an FY2009 NOFA. If you have questions regarding these provisions or concerning a conflict of interest, you may call the Office of General Counsel, Ethics Law Division, at 202-708-3815 (this is not a toll-free number).

p. Drug-Free Workplace. Applicants awarded funds from HUD are required to provide a drug-free workplace. Compliance with this requirement means that the applicant will:

(1) Publish a statement notifying employees that it is unlawful to manufacture, distribute, dispense, possess, or use a controlled substance in the applicant's workplace and that such activities are prohibited. The statement must specify the actions that will be taken against employees for violation of this prohibition. The statement must also notify employees that, as a condition of employment under the federal award, they are required to abide by the terms of the statement and that each employee must agree to notify the employer in writing of any violation of a criminal drug statute occurring in the workplace no later than 5 calendar days after such violation;

(2) Establish an ongoing drug-free awareness program to inform employees about:

(a) The dangers of drug abuse in the workplace;

(b) The applicant's policy of maintaining a drug-free workplace;

(c) Any available drug counseling, rehabilitation, or employee maintenance programs; and

(d) The penalties that may be imposed upon employees for drug abuse violations occurring in the workplace;

(3) Notify the federal agency in writing within 10 calendar days after receiving notice from an employee of a drug abuse conviction or otherwise receiving actual notice of a drug abuse conviction. The notification must be provided in writing to HUD's Office of Departmental Grants Management and Oversight, Department of Housing and Urban Development, 451 7th Street, SW., Room 3156, Washington DC 20410-3000, along with the following information:

(a) The program title and award number for each HUD award covered;

(b) The HUD staff contact name, telephone, and fax numbers;

(c) A grantee contact name, telephone, and fax numbers; and

(4) Require that each employee engaged in the performance of the federally funded award be given a copy of the drug-free workplace statement required in item (1) above and notify the employee that one of the following actions will be taken against the employee within 30 calendar days of receiving notice of any drug abuse conviction:

(a) Institution of a personnel action against the employee, up to and including termination consistent with requirements of the Rehabilitation Act of 1973, as amended; or

(b) Imposition of a requirement that the employee participate satisfactorily in a drug abuse assistance or rehabilitation program approved for such purposes by a federal, state, or local health, law enforcement, or other appropriate agency.

q. Safeguarding Resident/Client Files. In maintaining resident and client files, HUD funding recipients shall observe state and local laws concerning the disclosure of records that pertain to individuals. Further, recipients are required to adopt and take reasonable measures to ensure that resident and client files are safeguarded. This includes when reviewing, printing, or copying client files.

r. Compliance with the Federal Funding Accountability and Transparency Act of 2006 (Pub. L. 109-282) (Transparency Act). Applicants receiving an award from HUD should be aware of the requirements of the Transparency Act. The Transparency Act requires the establishment of a central Web site that makes information available to the public regarding entities receiving federal financial assistance, by not later than January 1, 2008. In fulfillment of the requirements of the Act, OMB launched http://www.USAspending.gov in December 2007. The Web site makes information available to the public on the direct awards made by the federal government. The Transparency Act also requires, beginning not later than January 2009, that data on subawards be made available on the same Web site. In anticipation of the implementation of this requirement, HUD is placing awardees of its FY2009 competitive funding on notice of these requirements and note that once implemented, grantees will be required to report their subaward data to HUD or a central federal database. The only exceptions to this requirement under the Transparency Act are: (1) Federal transactions below $25,000, (2) credit card transactions prior to October 1, 2008, (3) awards to entities that demonstrate to the Director of OMB that the gross income of such entity from all sources did not exceed $300,000 in the previous tax year of such entity, and (4) awards to individuals. Guidance for receiving an exception under item (3) above has not been finalized by OMB.

HUD is responsible for placing award information for direct grantees on the government Web site. The reporting of subaward data is the responsibility of the grantee. Grantees should be aware that the law requires the information provided on the federal Web site to include the following elements related to all subaward transactions, except as noted above:

(a) The name of the entity receiving the award;

(b) The amount of the award;

(c) Information on the award including the transaction type, funding agency, the North American Industry Classification System (NAICS) code or Catalog of Federal Domestic Assistance (CFDA) number (where applicable), program source, and an award title descriptive of the purpose of each funding action;

(d) The location of the entity receiving the award and primary location of performance under the award, including the city, state, congressional district, and country;

(e) A unique identifier of the entity receiving the award and of the parent entity of the recipient (the DUNS number), should the entity be owned by another entity; and

(f) Any other relevant information specified by OMB.

HUD expects OMB to issue further guidance on subaward reporting in late 2008 or early 2009. Based on preliminary input from the various federal agencies, applicants should be aware that consideration is being given to requiring the disclosure of additional data elements to help track the flow of funding from the original federal award. Such data elements under consideration include the tier at which the subaward was made, the federal award number issued to the direct awardee, the dollar amount of the federal award emanating from the direct award going to the subawardee, as well as the total subaward amount, which could include funds from other sources. Additional information regarding these requirements will be issued by OMB and will be provided when available.

IV. Application and Submission Information

A. Addresses To Request Application Package

This section describes how applicants may obtain application forms and request technical assistance.

1. Technical Assistance and Resources for Grants.gov Electronic Grant Applications.

a. Grants.gov Customer Support. Grants.gov provides customer support information on its Web site at http://www.grants.gov/contactus/contactus.jsp. Applicants having difficulty accessing the application and instructions or having technical problems can receive customer support from Grants.gov by calling 800-518-GRANTS (this is a toll-free number) or by sending an e-mail to support@grants.gov. The customer support center is open from 7 a.m. to 9 p.m. eastern time, Monday through Friday, except federal holidays. The customer service representatives will assist applicants in accessing the information and addressing technology issues, including accessibility problems, in accordance with section 508 of the Rehabilitation Act (See paragraph 4(h), Accessible Technology). Applicants should ask for a Grants.gov call center ticket number if not provided one by the call center customer service representative. In case of issues, HUD relies on the call center ticket logs as part of the review of records.

b. HUD Web site. The following documents and information can be found on HUD's Web site at http://www.hud.gov/offices/adm/grants/fundsavail.cfm.

(1) Desktop Users Guide for Submitting Electronic Grant Applications. HUD will publish on its Web site at http://www.hud.gov/offices/adm/grants/fundsavail.cfm an update to its detailed Desktop Users Guide that walks applicants through the electronic process, beginning with finding a funding opportunity, completing the registration process, and downloading and submitting the electronic application. The guide will include helpful step-by-step instructions, screen shots, and tips to assist applicants in becoming familiar with submitting applications electronically and overcoming submission issues, based upon past lessons learned from working with applicants and the Grants.gov Project Management Office (PMO).

(2) Connecting with Communities: A User's Guide to HUD Programs and the FY2009 NOFA Process Guidebook. This guidebook to HUD programs will be available from the HUD NOFA Information Center and at HUD's Funds Available Web site at http://www.hud.gov/offices/adm/grants/fundsavail.cfm after the publication of the General Section and when appropriations have been enacted for FY2009. The guidebook provides a brief description of all HUD programs that have funding available in FY2009, identifies eligible applicants for the programs and the program office responsible for the administration of the program.

(3) NOFA Webcasts. HUD provides technical assistance and training on its programs announced through its NOFAs. The NOFA broadcasts are interactive and allow potential applicants to obtain a better understanding of the threshold, program, and application submission requirements for funding. Participation in this training opportunity is free of charge and can be accessed via HUD's Web site. The NOFA webcast schedule can be found via HUD's Web site at http://www.hud.gov/webcasts/index.cfm.

c. HUD's NOFA Information Center. Applicants that do not have Internet access and need to obtain a copy of a NOFA can contact HUD's NOFA Information Center, toll free, at 800-HUD-8929. Persons with hearing or speech impairments may access this number, toll free, via TTY by calling the Federal Information Relay Service at 800-877-8339. The NOFA Information Center is open between the hours of 10 a.m. and 6:30 p.m. eastern time, Monday through Friday, except federal holidays.

d. HUD Staff. HUD staff will be available to provide you with general guidance and technical assistance about this notice or about individual program NOFAs. However, HUD staff is not permitted to help prepare your application. Following selection of applicants, but before announcement of awards, HUD staff is available to assist in clarifying or confirming information that is a prerequisite to the offer of an award or annual contributions contract (ACC) by HUD. If you have program-related questions, follow the instructions in section VII of the Program Section entitled “Agency Contact(s)” in the program NOFA under which you are applying. If you have difficulty in submitting your application, please first contact the Grants.gov Help Desk. The Grants.gov Help Desk can be reached by calling 800-518-GRANTS or e-mailing Support@Grants.gov. HUD recommends calling the Help Desk rather than e-mailing, because determining the basis for the problem may take some conversation with the Grants.gov Support Customer Service Representative. Grants.gov can try to assist you in overcoming technology obstacles, but can only provide assistance with 24 to 48 hours advance notice so it has resources and time to diagnose the problems. Applicants are reminded to retain any Grants.gov Help Desk ticket number(s).

B. Content and Form of Application Submission

1. Use of Adobe Forms Application Packages. In FY2009, HUD is again using Adobe Forms in the application packages available from Grants.gov. The Adobe Forms packages are compatible with the Microsoft Windows Vista operating system, Apple Macintosh computers, and Microsoft Office 2007. For more information, see the Grants.gov Web site at http://www.grants.gov/assets/Vista_and_office_07_Compatibility.pdf. Applicants need to pay strict attention to the submission instructions provided in this notice to have a successful submission using the Adobe Forms packages.

2. Instructions on How to Register for Electronic Application Submission. Applicants must submit their applications electronically through Grants.gov. Before you can do so, you must complete several important steps to register as a submitter. The registration process can take approximately 2 to 4 weeks to complete. Therefore, registration should be done in sufficient time before you submit your application. To register, applicants must complete five sequential steps:

a. Step One: Obtain a Dun and Bradstreet Data Universal Numbering System (DUNS);

b. Step Two: Register with the CCR;

c. Step Three: Register with the Credential Provider;

d. Step Four: Register with Grants.gov; and

e. Step Five: Granting Approval of an AOR to Submit an Application on Behalf of the Organization.

All five steps must be completed to have a valid registration and to be able to successfully submit an application via Grants.gov. Detailed explanation of each step and important information related to each step in the process is available in HUD's Early Registration notice, published December 5, 2008 (73 FR 74179). Detailed information is also described below.

3. Key Terms Used as Part of the Registration Process.

a. Applicant Organization. The applicant organization is an entity that is identified as the legal applicant for funding in box 8a on the SF-424, Application for Federal Assistance, and is the organization that HUD will hold accountable to fulfill the requirements of the award, should the applicant be selected for funding. Grant writers or persons authorized to submit an application for funding by the applicant organization eBusiness Point of Contact (see definition below) must not enter their organization or their organization's DUNS number in the SF-424, Application for Federal Assistance. Grant writers who wish to submit an application on behalf of an applicant organization must become an AOR to submit the application. (See definition of Authorized Organization Representative below, and registration instructions for AORs later in this notice).

b. Authorized Organization Representative (AOR). The applicant organization (applicant legal name on box 8a of the SF-424) E-Biz POC must grant permission for a person to become an AOR and submit an application on behalf of the applicant organization through the Grants.gov system. Authorizing an AOR safeguards the applicant organization from unauthorized individuals who may attempt to submit a grant application without permission. To check the AOR status, go to https://apply07.grants.gov/apply/ApplicantLoginGetID. Then, using the user name and password (obtained from the Credential Provider), check to see if the E-Biz POC has granted approval or if the request to be an AOR is noted as “Request Sent.” If the information says “Request Sent,” the approval has not been granted. AORs are advised to contact the E-Biz POC to determine the basis for the lack of approval. A proposed AOR cannot submit the application to Grants.gov without AOR status noted as “Approved.”

c. eBusiness Point of Contact (E-Biz POC). The E-Biz POC is identified during the Central Contractor Registration Process (Step 2 of the Registration Process). The E-Biz POC must grant authority for a person to be the AOR. An E-Biz POC may serve as an AOR as well as an E-Biz POC. The E-Biz POC becomes the sole Grants.gov authority for the organization and has the capability of designating or revoking an AOR's ability to submit a grant application on behalf of the organization using the Grants.gov system.

d. Marketing Partner ID Number (MPIN). As part of the CCR Registration Process, the E-Biz POC will be asked to create an MPIN. The MPIN is a nine character (alpha numeric) password that is used to access other systems and should be well guarded. For organizations wishing to apply for federal grants using the Grants.gov system, the MPIN is required for the E-Biz POC to log into the Grants.gov system and grant the person requesting permission to be an AOR, the permission to submit the grant on behalf of the applicant organization.

e. Trading Partner Identification Number (TPIN). A TPIN is a password that is used to access the applicant organization's Central Contractor Registration (CCR) data. Organizations that become active in CCR are issued a TPIN (password) to access their record in order to make, or request, any changes or updates to their CCR registration. Because of the sensitivity of this data, CCR recommends that CCR registrants not disclose their TPIN to anyone under any circumstances.

4. Instructions on Completing the Registration Process for New Applicants or Applicants Updating or Renewing Registration.

a. The Need to Register with Grants.gov.

HUD provides funding to organizations only. This information, therefore, is directed to HUD applicants that are organizational entities.

Before an applicant can apply for a grant opportunity, the applicant must first register with Grants.gov to provide and obtain certain identifying information. Please note that registration is a multi-step process. The registration process also requires the applicant organization to provide information at Web sites other than Grants.gov. Registration protects both HUD and the applicant. Specifically, registration confirms that the applicant organization E-Biz POC has designated and authorized a certain individual or entity to submit an application on its behalf and assures HUD that it is interacting with a designated representative of the applicant who has been authorized to submit the application.

b. Steps to Register. HUD's NOFA process requires applicants to submit applications electronically through Grants.gov. Before being able to do so, applicants must complete several important steps to register or update/renew their registration to be able to submit the application. The registration process can take approximately 2 to 4 weeks to complete.

(1) Step One: Obtain a Dun and Bradstreet Data Universal Numbering System (DUNS). Step One of the registration process requires an applicant organization to obtain a DUNS number for the organizational entity for which an application for federal assistance will be submitted. All organizations seeking funding directly from HUD must have a DUNS number and include the number on the form SF-424, Application for Federal Assistance, which is part of the application package. The DUNS number is also required as part of the registration process. If the applicant organizational entity identified in box 8a on the SF-424 already has a DUNS number, it must use that number. The number must be registered with the legal name of the organizational entity. Failure to provide a DUNS number or the correct DUNS number associated to the applicant organization legal name as entered on the form SF-424, box 8a and CCR can prevent you from submitting a grant application or obtaining an award, regardless of whether it is a new award or renewal of an existing one. This policy is pursuant to OMB policy issued in the Federal Register on June 27, 2003 (68 FR 38402). HUD codified the DUNS number requirement on November 9, 2004 (69 FR 65024). A copy of the OMB Federal Register notice and HUD's regulation codifying the DUNS number requirement can be found at http://www.hud.gov/offices/adm/grants/duns.cfm. Applicants cannot submit an electronic application without a DUNS number. An incorrect DUNS number in an application package will result in Grants.gov rejecting the application, because the DUNS number entered in the application will not be consistent with the DUNS number associated to the applicant legal name as entered in box 8a of the form SF-424, CCR, and Internal Revenue Service (IRS) records. The applicant legal name and DUNS number used on the application must match the DUNS number and organization name used in the CCR. Applicants must note that information entered and used to obtain the DUNS number will be used to pre-populate the CCR, which is Step Two of the registration process. Applicants should, therefore, carefully review information entered when obtaining a DUNS number. When registering with Dun and Bradstreet (D&B), please be sure to use the organizational entity's legal name used when filing a return or making a payment to the Internal Revenue Service (IRS). Organizations should also provide the zip code using the zip code plus four code (Zip+4).

Applicants can obtain a DUNS number by calling 866-705-5711 option 4 for grant applicants. (This is a toll-free number.) Applicants in Alaska and Puerto Rico can call 800-234-3867. The approximate time to get a DUNS number is 10 to 15 minutes, and there is no charge. Applicants may also obtain a DUNS number by accessing the D&B Web site at http://fedgov.dnb.com/webform. The approximate time to create the number online is one business day. After obtaining a DUNS number, applicants should wait 24 to 48 hours to register with the CCR so that its DUNS number has time to become activated in the D&B records database.

(2) Step Two: Register with the CCR. The second step of the registration process is registering with the CCR. The CCR is the primary registrant database for the federal government. An organization planning to submit a grant application for the first time must register, using its legal business name and name used with the IRS. CCR allows you to establish roles and user names for representatives that will use Grants.gov to submit electronic grant applications. Applicant organizations must annually update or renew their registration at http://www.ccr.gov, by clicking on the link entitled “Update or Renew Registration.” If you need assistance with the CCR registration process, you can contact the CCR Assistance Center, 24 hours a day, 7 days a week, at 888-277-2423 or 269-961-5757. Applicants can also obtain assistance online at http://www.ccr.gov. A CCR Handbook that guides applicants through the registration process is available on the CCR Web site by clicking on “Help.” If an applicant organization fails to update/renew its CCR registration, the Grants.gov registration will lapse prohibiting the application from being accepted by Grants.gov due to failure to have a complete registration. Registration, including update/renewal, can take several weeks as CCR compares its records to those maintained by D&B and the IRS. The records of D&B, CCR, and the IRS must match. If discrepancies arise, Step Two cannot be completed until the discrepancies are resolved. For this reason, HUD urges applicants to complete the CCR registration, or update/renew its existing registration, immediately. Otherwise, the CCR check with D&B and IRS records may delay completing the registration process and adversely affect the ability to submit a grant application. The CCR registration process consists of completing a Trading Partner Profile (TPP), which contains general, corporate, and financial information about your organization. When completing the TPP, you will be required to identify an E-Biz POC, responsible for maintaining the information in the TPP and granting authorization to individuals to serve as AORs. An AOR is the individual who will submit the application through Grants.gov for the applicant organization. Applicants can check the CCR registration and E-Biz POC by going to http://www.ccr.gov and search by clicking on “Search CCR.”

(a) CCR Use of D&B Information. In July 2006, CCR implemented a policy change. Under this policy change, instead of obtaining name and address information directly from the registrant, CCR obtains the following data fields from D&B: Legal Business Name, Doing Business as Name (DBA), Physical Address, and Postal Code (Zip+4). Registrants will not be able to enter or modify these fields in CCR because they will be pre-populated using previously registered DUNS records data. During a new registration, or when updating a record, the registrant has a choice to accept or reject the information provided from the D&B records. If the registrant agrees with the D&B supplied information, the D&B data will be accepted into the CCR registrant record. If the registrant disagrees with the D&B supplied data, the registrant must go to the D&B Web site at http://fedgov.dnb.com/webform to modify the information contained in D&B's records before proceeding with its CCR registration. Once D&B confirms the updated information, the registrant must revisit the CCR Web site and “accept” D&B's changes. Only at this point will the D&B data be accepted into the CCR record. This process can take up to 2 business days for D&B to send modified data to CCR, and that timeframe may be longer if data is sent from abroad.

(b) CCR EIN/TIN Validation. To complete the CCR registration and qualify as a vendor eligible to bid for federal government contracts or apply for federal grants, the EIN/TIN and Employer/Taxpayer Name combination you provide in the IRS Consent Form must match exactly to the EIN/TIN and Employer/Taxpayer Name used in federal tax matters. It will take one to two business days to validate new and updated records prior to becoming active in CCR. Please be sure that the data items provided to D&B match information provided to the IRS. If the registration in D&B and the CCR do not match the IRS information, an error message will result. Until the discrepancies have been resolved, the registration will not be completed. HUD recommends that applicant organizations carefully review their D&B and CCR registration information for accuracy immediately upon publication of this notice. If you have questions about your EIN/TIN, call 800-829-4933.

(c) Detailed Steps for NEW applicant organizations to register with CCR. The following is a step-by-step guide to help an applicant organization register with CCR. Additional assistance is available online at http://www.ccr.gov. Before beginning the CCR registration process, organizations should designate an individual who will be responsible for completing the CCR registration and managing the information entered into CCR. The listing below identifies the steps in the CCR registration process.

(i) Go to http://www.ccr.gov/. Once on the site, on the left side of the screen, click “Start a New Registration.” At the “Start a New Registration” screen, of the three choices, please select “I am not a U.S. Federal Government entity.” Click “Continue.”

Note: CCR registration is NOT required for individuals; however, HUD does not directly fund individuals through its NOFA process.

(ii) The next screen provides review items that must be completed before continuing in CCR. After reviewing the information and all items have been completed, click “Continue with Registration.”

(iii) To begin registration with CCR, enter the organization entity's DUNS number and click “Next.”

(iv) At the next screen, “New Registration,” enter the organization's DUNS number. Then click “Next.” The next “New Registration” screen displays the DUNS number. The registrant will be prompted to enter the organization information, e.g., name, address, etc. If the information inputted does not match that contained in the D&B record for the DUNS number provided, the system will state: “Try again by correcting your input below” or “Contact D&B to make a change to your D&B DUNS record.”

(v) The next page of “New Registration” is “Verify Your Results with D&B.” Here the registrant will be asked, “Is this information correct?” After ensuring the accuracy of the information, click on “Accept/Continue or Cancel.”

(vi) If you “Accept/Continue,” the confirmation number will be displayed. This is a temporary number that allows the registrant to save the registration as a work in progress. Print this page. A temporary number along with the organization DUNS number will let the registrant access CCR to complete the registration at a later date.

(vii) Continuing registration from the Confirmation page, click “Continue.”

(viii) “How to Complete your Registration” is the next page. Once the information has been reviewed and found correct, click “Continue.”

(ix) The “General Information” page is the next screen. On this page the registrant will need to complete all the required information.

(x) Creating a Marketing Partner ID Number (MPIN). The final step in creating the organization's TPP requires the registrant to create an MPIN. The MPIN is a self-defined nine character password that the E-Biz POC will need to access Grants.gov to authorize an AOR to be able to submit a grant application.

(xi) Registration Notification. If the registration was submitted successfully, the registrant will receive two letters through the U.S. Mail or via email. The first welcomes the registrant to CCR and includes a copy of the registration. The second contains the confidential TPIN. Receipt of the TPIN confirms successful registration in CCR and serves as the registrant's confidential password to change CCR information.

(d) Detailed Steps for Updating/Renewing Current Registrations.

(i) The E-Biz POC for the organization that is identified in box 8a of the SF-424 should go to http://www.ccr.gov/. Once on the Web site, on the left side of the screen, click “Update or Renew Registration.” At the “Update Renew or Registration” screen, of the three choices, please select “I am not a U.S. Federal Government entity.” Click “Continue.”

Note: CCR registration is NOT required for individuals. HUD does not directly fund individuals through its NOFA process.

(ii) The next screen asks the E-Biz POC to enter the organization's DUNS number and TPIN number sent to the E-Biz POC at the time of the last update. Click “Log In” to continue.

Note: If the E-Biz POC can't remember the TPIN, the site provides a link to request the TPIN.

(iii) The next screen, “General Information,” displays the organization information. This site allows the E-Biz POC to update information contained in CCR. Once information has been reviewed and, as needed, updated, click on “Validate/Save Data.”

Note: The E-Biz POC will validate and save data contained within CCR for Corporate Information, Goods/Services, Financial, Points of Contact, and IRS content. Once the information has been validated and saved in each required section, the last screen will indicate “Registration Complete.”

(e) Current Registrants without an MPIN. If you currently have an active registration in CCR and you do not have an MPIN, you will need to do the following:

(i) Access the CCR Web site at http://www.ccr.gov. At the left margin, click on “Update or Renew Registration.”

(ii) Select “I am not a U.S. Federal Government entity.” Click “Continue.”

(iii) Enter the organization's DUNS number and TPIN.

(iv) On the next page, click on the link “Points of Contact.” Complete all fields for the E-Biz POC and the alternate E-Biz POC. Scroll down to the bottom of the Points of Contact page, and create your own MPIN. Once completed, click on the “Validate/Save” button.

Note to Active Registrants in CCR: A TPIN is a password that is used to access your CCR data. Organizations that become active in CCR are issued a TPIN (password) to access and maintain their data. Because of the sensitivity of this data, CCR recommends that you do not disclose your TPIN to anyone under any circumstances.

(3) Step Three: Register with the Credential Provider.

(a) Registering with Credential Provider. To safeguard the security of electronic information, Grants.gov utilizes a Credential Provider to determine with a degree of assurance that someone is really who he or she claims to be. Once the organization requesting funding has identified who will be submitting the Application for Federal Assistance on their behalf, the person to submit the application must register with a Credential Provider to create his/her user name and password. The user name and password created through the credential provider will be registered with Grants.gov as part of the next step in the registration process. To register with a credential provider, the designated person must have the organization's DUNS number that will be entered in box 8a of the form SF-424, Application for Federal Assistance. The organization's DUNS number used must be identical to the DUNS number for the organization found in the CCR registration.

Since August 30, 2007, organizations can choose from three federally approved credential providers available from which to choose their authentication services: The Agriculture Department; the Office of Personnel Management's Employee Express; and Operational Research Consultants (ORC), Inc., which also provided authentication services prior to August 30, 2007. Until January 11, 2009, or shortly thereafter, users who already hold a Grants.gov user name and password through ORC will not experience much change. New users will be able to choose from any of the three credential providers available.

• To register with a credential provider, go to http://apply07.grants.gov/apply/ORCRegister. Once you have accessed the site, scroll down the page and enter the DUNS number, and click on “Register.”

• At the next screen, scroll down and select “Get Your Credentials.”

• On the “eAuthentication User Information” screen, complete and submit all information.

• On the next screen, confirm your information and create your own user name and password. Then click “Submit.” If all the information has been entered correctly, you will receive a notice of Registration Success.

(b) Provision of Credentials by Grants.gov. In January 2009, Grants.gov will be terminating service with the current Grants.gov credential provider, Operational Research Consultants (ORC). As a result of the change, Grants.gov will provide credentials (user name and passwords) to Grants.gov registrants.

(i) New Grants.gov Registrants. After January 2009, or when Grants.gov begins providing credential services, when clicking on the “For Applicants” link, new Grants.gov registrants will get a pop-up screen asking them to update their user profile. The information requested is similar to the information that was previously provided to ORC or one of the other credential providers. In addition to updating their user profile, registrants will be asked to enter a Secret Question and Secret Answer. The Secret Question and Secret Answer portion of the information provides for increased security for future inquiries about the registrants' account and allows registrants to reset their own password. Once created, users will be able to reset their password on their own. Previously, users needed to call the Grants.gov Help Desk to get a password or user name reset or go back to the credential provider to get a password they forgot.

(ii) Existing/Legacy Registrants. Grants.gov will retain the user name and password for existing/legacy registrants. However, existing/legacy registrants will have to update their profile by clicking on the “For Applicants” link, update their profile, and establish a Secret Question and Secret Answer. The automated user name and password reset feature will not work if the registrant has not updated his or her profile and created the Secret Question and Secret Answer.

(iii) Forgot My User Name and Forgot My Password Links. New and legacy applicants that updated their profile and created a Secret Question and Secret Answer will be able to use the “Forgot My User Name” and “Forgot My Password” links on the Applicant Login screen to have their user name and password sent to them via email. To do so, they will have to know their DUNS number and email address to retrieve and reset their user name and password.

Note: Registration to use Grants.gov to submit a funding application on behalf of an organization is not complete until Steps Four and Five below are completed.

(c) Steps for Checking your Credentials.

(i) Prior to January 11, 2009, or when Grants.gov begins to offer credential provider services, if you want to check your credentials prior to submitting an application, you may go to http://e-auth.orc.com/. Once you are on the E-Authentication site, scroll down the page and click on the link “Check your Credentials.” Then enter your user name and password. If you enter the correct information, you will receive a message that states, “You have successfully verified your registration.” If you have forgotten your password, click on the link “User Administration” and select “Forgotten Password” located in the left margin. On the next screen, enter your user name and click “Submit.” The next screen displays your secret question. Follow instructions on this screen and click “Submit.” Your password has been reset.

(ii) After January 11, 2009, or when Grants.gov offers credential provider services, AORs who have updated their profile and created the Secret Question and Secret Answer as a Grants.gov registrant can log into Grants.gov and obtain or reset their registered user names and password, or reset their user name or password through the Grants.gov automated service. If an applicant organization has multiple users, each registered Grants.gov user will have to update his or her Grants.gov user profile and create a Secret Question and Secret Answer. Questions about the changes to the Grants.gov registration process should be directed to the Grants.gov Help Desk at 800-518-GRANTS.

(4) Step Four: Register with Grants.gov.

(a) Prior to January 11, 2009, or prior to when Grants.gov offers credential provider services, after completing Step 3, creating a user name and password with the credential provider, the person(s) named by the applicant organization to submit an application for funding on behalf of the organization, and which is registered with a Credential Provider, must open an account with Grants.gov. Opening the account with Grants.gov identifies the person who, as an AOR for the organization seeking funding, is requesting permission to submit the application. The final step in the registration process is when the E-Biz POC for the applicant organization identified in Box 8a of the SF-424, Application for Federal Assistance actually grants authorization to the person identified as an AOR. (See Step Five below). To register with Grants.gov, go to https://apply07.grants.gov/apply/GrantsgovRegister.

After the proposed AOR registers his or her user name and password with Grants.gov, the organization's E-Biz POC will be sent an email indicating that someone has requested authority to submit an application for the organization and has registered as an AOR.

(b) After January 11, 2009, or when Grants.gov offers credential provider services, the person(s) named by the applicant organization to submit an application for funding on behalf of the organization must open an account with Grants.gov, or update their existing account. Opening the account with Grants.gov identifies the person as a proposed AOR seeking funding for the organization named in box 8a of the form SF-424, Application for Federal Assistance, and who is requesting permission to submit the application. To open an account, the proposed AOR must complete the profile information and create a Secret Question and Secret Answer at Grants.gov. An existing or legacy AOR can log into Grants.gov using his or her user name and password, update his or her profile, and create a Secret Question and Secret Answer. To register with Grants.gov, go to https://apply07.grants.gov/apply/GrantsgovRegister.

After the proposed AOR registers his or her user name and password with Grants.gov, the organization's E-Biz POC will be sent an e-mail indicating that someone has requested authority to submit an application for the organization and has registered as an AOR.

The final step in the registration process is when the E-Biz POC for the applicant organization identified in Box 8a of the SF-424, Application for Federal Assistance, actually grants authorization to the person identified as an AOR. (See Step Five below).

(5) Step Five: Granting Approval of an AOR to Submit an Application on Behalf of the Organization. The E-Biz POC must log into the Grants.gov Web site and give the registered AOR approval to submit an application to Grants.gov. By authorizing the AOR to submit on behalf of the applicant organization, the E-Biz POC is stating that the person has the legal authority to submit the electronic application on behalf of the applicant organization and can make a legally binding commitment for the applicant organization.

(a) The E-Biz POC must approve the designated AOR(s). If the E-Biz POC does not grant authorization, Grants.gov will not accept the application. The E-Biz POC can designate the AOR to submit applications on behalf of the organization at https://apply07.grants.gov/apply/AorMgrGetID. The registration is complete when an AOR has been approved to submit an application on behalf of the applicant organization by the E-Biz POC.

HUD urges applicants to check with their E-Biz POC to make sure that they have been authorized to make a legally binding commitment for the applicant organization when submitting the application to Grants.gov. This is particularly important if, during the CCR registration renewal process, the E-Biz POC for the applicant organization has been changed. The new E-Biz POC will have to grant authorization to all AORs. You can search the CCR registration for the E-Biz POC by going to https://www.bpn.gov/CCRSearch/Search.aspx.

(b) AORs can track their AOR status at any time on Grants.gov by going to the Applicant home page at Grants.gov. In “Quick Links,” log in as an applicant and enter your user name and password. If you have not been granted AOR status by the E-Biz POC, you should contact the E-Biz POC directly.

5. Instructions on How to Download an Application Package and Application Instructions.

Please note:

The following instructions are not applicable to Continuum of Care applicants because Continuum of Care applications are not submitted to Grants.gov. A complete explanation on how to find and apply for Continuum of Care grants in 2009 will be provided in the Continuum of Care Program NOFA. HUD does provide notification of the availability of the registration instructions, applications, or other information through the Grants.gov Web site. Grants.gov no longer offers its notification service. Grants.gov now offers RSS Feed Services. Applicants are advised to sign up for one of the RSS Feed Services, which will allow an applicant to be notified of new funding opportunities or modifications to an existing funding opportunity. Information on RSS Feed options can be found at http://www07.grants.gov/help/rss.jsp. Applicants familiar with this technology may select any feed service listed on the Grants.gov site. However, to assist applicants with making a selection, HUD is offering these suggestions for one of the most popular services:

• eMail with Microsoft Outlook Directions

• Open your Web browser and go to http://www.grants.gov.

• In the upper right corner of the screen, select RSS.

• In the middle of the page, click on the hyperlink in “Get an RSS Reader.”

• From the list of categories, select Windows.

• Select blogbot for Outlook.

• Select Download. A File Download dialog box will appear.

• Select Run. (If you see a Security Warning dialog box, select Run.)

• Run Setup Wizard accepting the default settings.

• When the Setup Wizard is finished, open Outlook.

• Look to see if a blogbot icon is visible in the tool bar area of Outlook. If not:

• Select View in the menu. Then select Toolbars. Click on blogbot. The blogbot icon should now be visible in your toolbars.

• To subscribe to Grants.gov, direct your browser back to the Grants.gov RSS page.

• Right-click on the orange icon next to New/Modified Opportunities by Agency or New/Modified Opportunities by Category.

• Select Add to blogbot for Outlook. For each subscription blogbot, add a subfolder in Inbox\blogbot.

• If the add blogbot for Outlook option does not appear, Select the feed to which you want to subscribe and copy the URL from the address box.

• From the blogbot toolbar icon, select Subscriptions.

• Paste the URL from Grants.gov into the RSS/Atom URL textbox.

• Create a name in the Name textbox.

• Windows Environment Directions

• Direct your web browser to http://www.jetbrains.com.

• Select Downloads at the top of the page.

• Select Omea Reader.

• A File Download dialog box will appear.

• Select Run. (If you see a Security Warning dialog box, select Run.)

• Accept the default settings in the Setup Wizard. Note: Omea installation may ask to reboot your computer. Accept the choice. When the reboot is complete, Omea Startup Wizard should open. If the Startup Wizard does not start automatically, double-click on the Omea icon on your desktop to start it.

• Accept all defaults in the Wizard.

• When the Wizard is finished, OMEA Reader will start.

• To view messages in groups, from the View menu, select Show Items in Groups.

• After you have turned this option on, all items in the Items List will be displayed in groups and sorted according to which resource column is selected.

• You can group your items by any column of the Items List.

• MAC Users Directions

• Direct Safari to http://www.grants.gov.

• In the upper right corner of the screen, select RSS.

• To view announcements in Safari, simply select one of the feed options, e.g., New/Modified Opportunities by Agency or New/Modified Opportunities by Category. The list of opportunities appears in Safari.

• In the column on the right side of the page, select Subscribe in Mail.

• Open Mail.

• You should now have a folder under RSS named Grants Modified Opportunities List.

• Filter the list by typing the Agency acronym or other term into the search box in the upper right corner.

Applicants that have not signed up for the RSS Feed notification service can search for a funding opportunity on Grants.gov by going to http://www07.grants.gov/applicants/find_grant_opportunities.jsp. On this page, you can do a basic search, browse by category, or browse by agency. If you are interested in HUD Grants, click on browse by agency and then scroll down the page until you see U.S. Department of Housing and Urban Development on the right column. When you click on the HUD agency name, you will come to a page with all the funding opportunities that are posted by HUD at that point in time. When you click on an opportunity, you will come to a page that provides a synopsis of the opportunity and which also identifies the Catalog of Federal Domestic Assistance (CFDA) Number for the Program, the Funding Opportunity Number and further down the page, a link to the full announcement. To download the application and instructions, follow the directions below, but first you must be sure you have Adobe Reader 8.1.3 installed. HUD's FY2009 applications use Adobe Reader.

a. The Application Package and Application Instructions. The general process for downloading, completing, submitting, and tracking grant application packages is described at http://www07.grants.gov/applicants/apply_for_grants.jsp. To download the application and instructions, go to https://apply.grants.gov/forms_apps_idx.html and enter the CFDA Number, Funding Opportunity Number, or Funding Opportunity Competition ID for the application that you are interested in. If you enter more than one criterion, you will not find the instructions. You will then come to a page where you will find the funding opportunity Download Application & Instructions link. Before you can view and complete an application package, you must have a compatible Adobe Reader installed. Grants.gov is currently using Adobe Reader versions 8.1.2, 8.1.3, and 9.0. While the Grants.gov system supports all three versions of Adobe Reader, HUD applicants are advised they must download Adobe Reader 8.1.3 available from the Grants.gov Web site. HUD has been advised by Grants.gov that Adobe Reader 8.1.3 addresses the broken pipe error message and operates better than older versions of the reader, and the newer software results in faster uploads. Older versions, including Adobe Reader 9.0, do not solve the broken pipe issue. When Adobe Reader 9.1 is issued, it will address the broken pipe issue. To obtain Adobe 8.1.3 and check for compatibility with your system, go to http://www.adobe.com/products/acrobat/readstep2_allversions.html. At that site you can identify the software you have installed on your computer and follow the instructions for downloading the software compatible with your computer and associated to the instructions in this General Section for using Adobe Reader Version 8.1.3.

b. To check which version of Adobe Acrobat you are using, go to the Help menu in Adobe Acrobat and then select “About Acrobat.” A text box will appear containing an Adobe logo with a number. Under that information, you will see another number; this is the version number of your software (e.g., 8.1.1, 8.1.2, or 8.1.3). If you do not have the correct version of Adobe Reader, go to http://www.adobe.com/products/acrobat/readstep2_allversions.html. System requirements for Adobe Reader 8.1.3 are listed as follows:

6. Adobe Reader 8.1.3 System Requirements.

• Windows

• Intel Pentium® III or equivalent processor

• Microsoft Windows 2000 with Service Pack 4; Windows Server 2003; Windows XP Professional, Home Edition, or Tablet PC Edition with Service Pack 2 or 3; Windows Vista with or without Service Pack 1.

• 128MB of RAM (256MB recommended for complex forms or large documents).

• 170MB of available hard-disk space.

• Microsoft Internet Explorer 6.0 or 7.0, Firefox 1.5 or 2.0, Mozilla 1.7, AOL 9.

• Macintosh

• PowerPC G3, G4, G5, or Intel processor.

• Mac OS X v10.4.11-10.5.5.

• 128MB of RAM (256MB recommended for complex forms or large documents).

• 170MB of available hard-disk space.

• Safari 2.0.2.

• Linux

• 32-bit Intel Pentium processor or equivalent.

• LSB (Linux Standard Base) 3.1 compliant systems including Red Hat® Linux WS 5, SUSE® Linux Enterprise Desktop (SLED) 10, and Ubuntu 6.10.

• GNOME or KDE Desktop Environment.

• 512MB of RAM (1GB recommended).

• 125MB of available hard-disk space (additional 75MB required for all supported font packs).

• GTK+ (GIMP Toolkit) user interface library, version 2.6 or later.

• Firefox 1.5 or later, Mozilla 1.7.3 or later.

• Solaris

• UltraSPARC® or UltraSPARC IIIi® processor.

• Solaris 9 or 10.

• GNOME or KDE Desktop Environment (GNOME only for Solaris 10).

• 512MB of RAM (1GB recommended).

• 175MB of available hard-disk space (additional 75MB required for all supported font packs).

• GNU C library (glibc) version 2.3 or later.

• GTK+ (GIMP Toolkit) user interface library, version 2.6 or later (on Solaris 10; also works with GTK 2.4.9).

• Firefox 1.5 or later, Mozilla 1.7.3 or later.

• OpenGL library.

• OpenSSL 0.9.7, OpenLDAP, and CUPS libraries.

• libstdc++ library.

a. You can use Adobe Reader 8.1.3 with Adobe Professional 6.0 or newer, provided you have updated the default setting on the copy of Adobe Professional on your computer so the Adobe Reader default setting matches Adobe Reader 8.1.3, which you have just downloaded from the Grants.gov Web site and installed on your computer.

b. Grants.gov has posted instructions in Frequently Asked Questions at http://grants.gov/applicants/applicant_faqs.jsp. Applicants should review these FAQs as it will assist them in making sure that they are properly set up to successfully submit an application. Applicants need to make sure that the default setting on their Adobe Reader is set to the new 8.1.3 version of Adobe Reader software downloaded from Grants.gov. Adobe Reader 8.1.3 is compatible with Adobe Professional 6.0 or higher. Applicants that need assistance can contact the Grants.gov Contact Center by phone at 1-800-518-GRANTS or via e-mail at support@grants.gov.

Critical Notice: Applicants must be aware that all persons working on Adobe Forms in the application package must work using the same Adobe Reader version available from Grants.gov. Please alert your staff and those working on your application that failure to download and use the correct Adobe Reader 8.1.3 or to update the Reader on Adobe Professional to 8.1.3 and meet the Grants.gov compatibility requirements contained in this General Section will result in your not being able to create or submit the application package to Grants.gov or your application being rejected by Grants.gov. Using incompatible versions of Adobe Reader will result in files being corrupted.

Next, download the application instructions by clicking on the Download Instructions link. The Instructions contain the General and Program Sections for the funding opportunity, as well as forms that are not part of the application download but are included as elements of a complete package, as specified in the published NOFA. After you have installed Adobe Reader 8.1.3, you can now download the application by clicking on the Download Application link. Both the instructions and application should be saved on your computer. You do not need to be registered to download the instructions or complete the application; however, once you have downloaded the application and intend to submit an application, you must save it on your computer or local network drive.

Each program NOFA also includes a checklist. Please review the checklist in the Program Section to ensure that your application contains all the required materials.

c. Electronic Grant Application Forms.

(1) Forms contained in the Instructions download are available in Microsoft Office Word 2003 (.doc), Microsoft Office Excel 2003 (.xls), or Adobe (.pdf) formats. The .pdf files are only fillable forms and cannot be saved locally, unless you have Adobe Professional software version 6.0 or higher.

(2) To open the Application download, you must first install Adobe Reader 8.1.3. During the download process, the application automatically opens. If you have a version of Adobe Acrobat or Adobe Acrobat reader version 8.0 or older, the application will not open, and you will get an error message telling you to first install the correct version of the software. If you get an error message, follow the instructions in paragraph IV.B.5., Instructions on How to Download an Application Package and Application Instructions. The Application download will contain a cover page entitled “Grant Application Package.” The cover page provides information regarding the application package you have chosen to download, i.e., Opportunity Title, Agency Name, CFDA Number, etc. Review this information to ensure that you have selected the correct application. The Grant Application cover page separates the required forms into two categories: “Mandatory Documents” and “Optional Documents.” To complete a form from either the “Mandatory Documents” or Optional Documents,” you must first highlight and move the form over to the “Submission” box and then open the form.

(3) Please note that regardless of the box in which the forms are listed, the published General Section and Program Section NOFA (and any technical corrections) in the Federal Register documents are the official documents HUD uses to solicit applications. Therefore, applicants should follow the instructions provided in the General Section and Program Sections of the Instructions download. The individual NOFA sections will also identify the forms that may be applicable and that need to be submitted with the application.

(4) Because you will be adding additional attachment files to the downloaded application, applicants should save the application to their local computer or network drive. Do not download the application or attempt to upload the application using a USB flash drive (also called a “key drive,” “thumb,” or “jump drive”), because Grants.gov has found that applicants have problems uploading applications and attachments from a USB flash drive. Be sure to read and follow the application submission requirements published in each individual NOFA for which you are submitting an application. Each program NOFA will identify all the required forms and other required information for submission.

(5) HUD's standard forms are identified below:

(a) Application for Federal Assistance (SF-424);

(b) Faith-Based EEO Survey (SF-424 Supplement, Survey on Ensuring Equal Opportunities for Applicants), if applicable;

(c) HUD Detailed Budget (HUD-424-CB, Grant Application Detailed Budget);

(d) Grant Application Detailed Budget Worksheet (HUD-424-CBW);

(e) Disclosure of Lobbying Activities (SF-LLL), if applicable;

(f) HUD Applicant Recipient Disclosure Report (HUD-2880, Applicant/Recipient Disclosure/Update Report);

(g) Certification of Consistency with RC/EZ/EC-II Strategic Plan (HUD-2990), if applicable;

(h) Certification of Consistency with the Consolidated Plan (HUD-2991), if applicable;

(i) Acknowledgment of Application Receipt (HUD-2993);

(j) You Are Our Client Grant Applicant Survey! (HUD 2994-A) (Optional);

(k) Program Outcome Logic Model (HUD-96010);

(l) HUD Race Ethnic Form (HUD-27061), if applicable; and

(m) HUD Facsimile Transmittal (HUD-96011, Third Party Documentation Facsimile Transmittal).

All HUD “program-specific” forms not available at the Application download will be available in the Instructions download in Microsoft Word Office 2003 (.doc), Microsoft Excel Office 2003 (.xls), or Adobe (.pdf) format, compatible with Adobe Reader 8.1.3. The PDF forms are fillable but not savable, unless you have Adobe Professional 6.0 or higher. Applicants may use the HUD-96011, “Third Party Documentation Facsimile Transmittal” (“HUD Facsimile Transmittal” on Grants.gov) form and fax to HUD any forms they have completed but cannot save.

7. Instructions on How to Complete the Selected Grant Application Package.

a. Ensure You Have the Correct Application Downloaded. Applicants must check the application to ensure that the application they have downloaded matches the CFDA Number, Funding Opportunity Number, and Competition ID for the funding opportunity under which the applicant is requesting funds. In FY2009, if HUD receives an application submitted under the wrong application package, HUD will rate the application under the funding competition ID on the SF-424 for the submitted application. Please pay careful attention to which application you submit. The CFDA number, Funding Opportunity Number, and Competition ID are located on the front page of the downloaded application. If you download the wrong application, and it is prior to the deadline date, simply go back to Grants.gov and obtain the correct application and resubmit.

b. Mandatory Fields on Application Download Forms. Forms in the Application download contain fields with a yellow background. These data fields are mandatory and must be completed. Failure to complete the fields will result in an error message when checking the package for errors.

c. Completion of SF-424 Fields First. The forms in the application package are designed to automatically populate common data such as the applicant name and address, DUNS number, etc. In order to trigger this function, the SF-424 must be completed first. Once applicants complete the SF-424, the entered information will transfer to the other forms.

d. Submission of Narrative Statements, Third-Party Letters, Certifications, and Program-Specific Forms. In addition to program-specific forms, many of the NOFAs require the submission of other documentation, such as third-party letters, certifications, or program narrative statements. This section discusses how you should submit this additional information electronically as part of your application:

(1) Narrative Statements to the Factors for Award. If you are required to submit narrative statements, you must submit them as an electronic file in Microsoft Word Office 2007 (or earlier) (.doc), Microsoft Excel 2007 (or earlier) (.xls), or in Adobe (.pdf) format that is compatible with Adobe Reader 8.1.3. If HUD receives a file in a format or software other than those specified or that is not compatible with HUD software, HUD will not be able to read the file, and it will not be reviewed. Each response to a Factor for Award should be clearly identified and can be incorporated into a single attachment or all attachments can be zipped together into a single attached ZIP file. However, HUD advises applicants that files zipped within zipped files cause problems and can result in the application attachments not able to be opened or read. Applicants should develop files, then zip the files together, and then place them as an attachment to the application. If you have any questions, you can contact the NOFA Information Center or the HUD program contact listed in the program NOFA. Documents that applicants possess in electronic format, e.g., narratives they have written, must be submitted as Microsoft documents; graphic images (such as computer aided design (CAD) files from an architect) must be saved in PDF format. The documents must be compatible with Adobe Reader 8.1.3 and attached using the “Attachments” form included in the application package downloaded from Grants.gov. In addition, some NOFAs may request photographs. If this is the case, then the photographs should be saved in .jpg or .jpeg format and attached using the “Attachments” form. When creating attachments to your application, please follow these rules:

(a) Do not attach a copy of the electronic application with your attachments as an attachment file. HUD cannot open such files when the application is attached as an attachment file.

(b) Check the attachment file and make sure it has a file extension of .doc, .pdf, .xls, .jpg, or .jpeg or, if you save files in Microsoft Office 2007, the file extensions should be as follows:

Word 2007 File Type Extension

• docx—Word 2007 XML Document

Excel 2007 File Type Extension

• xlsx—Excel 2007 XML Workbook

PowerPoint 2007 File Extension Type

• pptx—PowerPoint 2007

(c) Make sure that file extensions are not in upper case. File extensions must be lower case for the file to be opened. The software will automatically insert the correct file extension when saved.

(d) Do not adjust file extensions to try to make them conform to HUD standards. If you have problems, please contact the HUD contact listed in the NOFA.

(e) Do not use special characters (i.e., #, %, /, etc.) in a file name.

(f) Do not include spaces in the file name.

(g) Limit file names to not more than 50 characters. HUD recommends that file names be no more than 32 characters.

(h) Do not convert Word files or Excel files into PDF format. Converting to PDF format increases file size and will make it more difficult to upload the application and does not allow HUD to enter data from the Excel files into a database.

(i) Do not submit applications larger than 150 megabytes. These file sizes are difficult to upload and HUD cannot guarantee that they can be processed, as its system has not been tested with files larger than 150 megabytes.

Failure to follow the directions for items (e), (f), and (g) will result in your application being rejected with a “VirusDetect” error message.

(2) ZIP Files. In order to reduce the size of attachments, applicants can compress several files using a ZIP utility. Applicants can then attach the zipped file as described above. HUD's standard zip utility is WinZip. Files compressed with the WinZip utility must use either the “Normal” option or “Maximum (portable)” option available to ensure that HUD is able to open the file. Files received using compression methods other than “Normal” or “Maximum (portable)” cannot be opened and will not be reviewed. Applicants should be aware that if HUD receives files compressed using another utility, or not in accord with these directions, it cannot open the files and, therefore, such files will not be reviewed.

(3) Third-Party Letters, Certifications Requiring Signatures, and Other Documentation. Applicants required to submit third-party documentation (e.g., establishing matching or leveraged funds, documentation of 501(c)(3) status or incorporation papers, documents that support the need for the program, Memorandums of Understanding (MOUs), or program-required documentation that supports your organization's claims regarding work that has been done to remove regulatory barriers to affordable housing) can choose from the following two options as a way to provide HUD with the documentation:

(a) Scanning Documents to Create Electronic Files. Scanning documents increases the size of files. If your computer has the memory and capacity to upload scanned documents, submit your documents with the application by using the Attachments form in the Mandatory or Optional Forms section of the application. If your computer does not have the memory to upload scanned documents, you should submit them via fax, as described below. Electronic files must be labeled so that the recipient at HUD will know what the file contains. Program NOFAs will indicate any naming conventions that applicants must use when submitting files using the Attachments form. Please note that if you do not follow the file name limit of not more than 50 characters, and the prohibition of using spaces and special characters in the file name, the Grants.gov system will treat these files as though they had a virus and the application will be rejected with a “VirusDetect” error message. If an applicant received a “VirusDetect” error message and the package has been checked for viruses, applicants should check their attachment file names for length, delete any spaces, and delete any special characters. HUD also recommends that file names be no more than 32 characters. Once the deficiencies have been addressed, applicants should save the application file, and the newly renamed attachments, and close the application down. Remove any cookies, reboot your computer, and then submit the application. Grants.gov advises submitting the application from Internet Explorer.

(b) Faxing Required Documentation. Applicants may fax the required documentation as program-specific forms to HUD. Applicants should use this method only when documents cannot be attached to the electronic application package as a .pdf, .doc, .xls, .jpeg, or .jpg, or when the size of the submission is too large to upload from the applicant's computer. If an applicant is trying to submit the application including scanned documents, and the application does not upload quickly to Grants.gov, HUD advises the applicant to either reconvert the scanned documents back to Microsoft Word or Excel files or send the attachments in using the fax methodology, because size of the scanned attachment files may be exceeding the capacity of your computer or your internet server to process the files and obtain a successful upload to Grants.gov.

HUD will not accept entire applications by fax and will disqualify applications submitted entirely in that manner.

(i) Fax form HUD-96011, “Third Party Documentation Facsimile Transmittal” (HUD Facsimile Transmittal on Grants.gov). Facsimiles submitted in response to a NOFA must use the form HUD-96011. The facsimile transmittal form, found in the downloaded application, contains a unique identifier that allows HUD to match an applicant's submitted application via Grants.gov with faxes coming from a variety of sources. Each time the application package is downloaded, the forms in the package are given a unique ID number. To ensure that all the forms in your package contain the same unique ID number, after downloading your application, complete the SF-424, save the forms to your hard drive, and use the saved forms to create your application. When you have downloaded your application package from Grants.gov, be sure to first complete the SF-424, and then provide copies of the form HUD-96011 to third parties that will submit information in support of your application. Do not download the same application package from Grants.gov more than once, because if your application submission does not match the unique identifier on the facsimile transmittal form, HUD will not be able to match the faxes received to your application submission. Faxes that cannot be matched to an application will not be considered in the review process.

If you have to provide a copy of the form HUD-96011 to another party that will be responsible for faxing an item as part of your application, make a copy of the facsimile transmittal cover page from your downloaded application and provide that copy to the third party for use with the fax transmission. Please instruct third parties to use the form HUD-96011 that you have provided as a cover page when they submit information supporting your application using the facsimile method, because it contains the embedded ID number that is unique to your application submission.

(ii) Use Form HUD-96011 as the Fax Cover Page. For HUD to correctly match a fax to a particular application, the applicant must use, and require third parties that fax documentation on its behalf to use, the form HUD-96011 as the cover page of the facsimile. Using the form HUD-96011 will ensure that HUD can electronically read faxes submitted by and on behalf of an applicant and can match them to the applicant's application package received via Grants.gov.

Failure to use the form HUD-96011 as the cover page will create a problem in electronically matching your faxes to the application. If HUD is unable to match the faxes electronically due to an applicant's failure to follow these directions, HUD will not hand-match faxes to applications and will not consider the faxed information in rating the application. If your facsimile machine automatically creates a cover page, turn this feature off before faxing information to HUD.

(iii) HUD Fax Number. Applicants and third parties submitting information on their behalf must use the form HUD-96011 facsimile transmittal cover page and must send the information to the following toll-free fax number: 800-HUD-1010. If you cannot access the toll-free 800 number or experience problems, you may use 215-825-8798 (this is not a toll-free number). These are new numbers for FY2009 applications only. If you use the wrong fax number, your fax will be entered as part of HUD's FY2008 database. HUD cannot search its FY2008 database to match FY2009 faxes to FY2009 applications. As a result, your application will be reviewed without faxed information if you fail to use the FY2009 fax numbers.

(iv) Fax Individual Documents as Separate Transmissions. It is highly recommended that applicants fax individual documents as separate submissions to avoid fax transmission problems. When faxing two or more documents to HUD, applicants must use the form HUD-96011 as the cover page for each document (e.g., Letter of Matching or Leveraging Funds, Memorandum of Understanding, Certification of Consistency with the Consolidated Plan, etc.). Please be aware that faxing large documents at one time may result in transmission failures.

(v) Check Accuracy of Fax Transmission. Be sure to check the record of your transmission issued by the fax machine to ensure that your fax submission was completed “OK.” For large or long documents, HUD suggests that you divide them into smaller sections for faxing purposes. Each time you fax a document that you have divided into smaller sections, you should indicate on the cover sheet what part of the overall section you are submitting (e.g., “part 1 of 4 parts” or “pages 1 to 10 of 20 pages”).

Your facsimile machine should provide you with a record of whether HUD received your transmission. If you get a negative response or a transmission error, you should resubmit the document until you confirm that HUD has received your transmission. HUD will not acknowledge that it received a fax successfully. When receiving a fax electronically, HUD will electronically read it with an optical character reader and attach it to the application submitted through Grants.gov. Applicants and third parties submitting information on their behalf may submit information by facsimile at any time before the application deadline date. Applicants must ensure that the form HUD-96011 used to fax information is part of the application package downloaded from Grants.gov. As stated previously, if your facsimile machine automatically generates a cover page, you must ensure that you turn that feature off and use the form HUD-96011 as the cover page. Also ensure that the fax is transmitted to fit 8½″ x 11″ letter-size paper.

(vi) Preview Your Fax Transmission. HUD recommends that you “preview” how your fax will be transmitted by using the copy feature on your facsimile machine to make a copy of the first two or three pages. This way, you will see what HUD will receive as a fax. If the fax is not clear or cuts off at the bottom of the page, applicants should use a different facsimile machine or have the machine adjusted. All faxed materials must be received no later than 11:59:59 p.m. eastern time on the application deadline date. HUD will store the information and match it to the electronic application when HUD receives it from Grants.gov. If you are not faxing any documents, you must still complete the facsimile transmittal form. In the section of the form titled “Name of Document Transmitting,” enter the words “Nothing Faxed with this Application.” Complete the remaining highlighted fields and enter the number “0” in the section of the form titled “How many pages (including cover) are being faxed?”

(vii) If You Resubmit an Application. Please be aware that a resubmitted application must meet the timely receipt requirements of this notice.

8. Steps To Take Before You Submit Your Application. Approximately one week before submitting an application, each applicant should configure its proxy and cache servers to ensure transmission of its application to Grants.gov. Grants.gov uses HTTP post protocols on port 80 (your technical support will be able to assist). Prior to submitting, applicants should review the application package and all the attachments to make sure the application contains all the documents the applicant wants to submit. If it does, save it to your computer and remove previously saved versions. Check your AOR status on Grants.gov to make sure your eBusiness POC has authorized you to submit an application on behalf of the applicant organization. Run the Check Package for Errors feature on the application package and correct any problems identified. Contact any persons or entities that were to submit third-party faxes to make sure that the faxes have been submitted using the facsimile cover page that you provided in accordance with instructions in this General Section. Check your e-mail system to ensure that it allows receipt of messages from Support@grants.gov. Microsoft Outlook users can set their e-mail to receive messages from Support@grants.gov going to their e-mail Inbox, clicking on “Actions” and selecting “Junk E-mail”, and then selecting “Junk E-mail Options.” A dialog box will come up. Click “OK.” Another dialog box will appear and select the “Safe Senders” folder. Then add @grants.gov to the list of acceptable e-mail domains. Click “OK.” Applicants not using Microsoft Outlook should check with their software provider or IT staff to get directions on how to allow e-mail from Grants.gov to come into your Inbox. This is critical as notices of receipt, validation, or rejection are sent by e-mail. Grants.gov sends the e-mail notification to the e-mail address registered during the registration process. The e-mail from Grants.gov does not go to the contact name listed on the SF-424 Application for Federal Assistance, but to the person designated in the registration at Grants.gov. Also check your Trust Manager to ensure that it will allow files to go to all sites. To enable Trust Manager, follow the steps below:

a. Click on Edit;

b. Then click on Preferences;

c. Then click Trust Manager in the left-hand pane;

d. Click on Change Settings on the ensuing window;

e. Select allow all sites listed toward the top of the page;

f. Click on OK;

g. Click on JavaScript on the left-hand side of the screen;

h. Make sure everything is checked here except for things under the Debugger heading (do not change);

i. Click on OK until you get out of the preferences windows;

j. When this has been done, you can try submitting your application. Click “Allow” on the pop-up window.

C. Receipt Dates and Times

Please note: Applicants under the Continuum of Care program should follow the directions for application submission and timely receipt that are contained in the Continuum of Care program NOFA. The instructions below apply only to applicants submitting applications via the federal portal http://www.Grants.gov.

1. The application deadline for receipt of HUD applications via Grants.gov is 11:59:59 p.m. on the date identified in the published program NOFA. As a result, applications must be received by Grants.gov by the deadline in order to meet the program NOFA deadline. Received means that the application has been successfully uploaded to the Grants.gov server and the applicant has received confirmation of successful submission to Grants.gov. Applicants should be aware that hitting the “sign and submit” button to transmit the application does not mean the application has been successfully uploaded to Grants.gov. Only when the upload is complete is the application date and time stamped by the Grants.gov system. An application that has been rejected by Grants.gov is not deemed to have been received by Grants.gov. (Please see Section D.1. below for a detailed explanation of Timely Receipt Requirements and Proof of Timely Receipt.) As in the past, HUD encourages applicants to submit their applications early and with sufficient time to address any issues that might affect the applicant's ability to have an application successfully uploaded and received by Grants.gov.

In FY 2009, HUD is establishing a one-day grace period from the date of notification of a rejection from Grants.gov, to allow applicants that successfully upload an application to Grants.gov prior to the deadline date and time, but receive a rejection notice after the deadline date and time, to cure the reason for rejection and re-upload the application to Grants.gov. The paragraphs below describe HUD's Grace Period Policy for FY2009.

a. Applicants that have successfully uploaded their application to Grants.gov prior to the deadline, and subsequently receive a rejection notice from Grants.gov after the deadline date and time, will have a one-day grace period from the date stamp on the first Grants.gov rejection notice after the deadline, to cure the basis for the rejection and upload an application that corrects the problems cited in the rejection notice. Applicants can upload the application as many times as needed to cure noted deficiencies within the one-day grace period. The Grants.gov rejection notice identifies the reasons why the application was rejected. Applicants that do not understand the error messages received in the rejection notice should immediately contact the Grants.gov Help Desk so they can get assistance in clearing the problem. Generally, Grants.gov will reject an application because it contains an incorrect DUNS number or a DUNS number that does not match the AOR's registration, the application was submitted by an individual without proper authorization as the AOR, and/or the application contains file names that trigger a “VirusDetect” message. The grace period ends one day after the date stamp on the first rejection notice received after the deadline date.

Warning: Applications that contain file names which are longer than 50 characters (HUD recommends using file names with 32 characters or less), or contain spaces or special characters, will result in the file being detected as a virus by the Grants.gov system and the application will be rejected with a “VirusDetect” message. In FY2008, the use of spaces and special characters in file names, and the use of file names which were longer than fifty characters, resulted in the most instances of an applicant receiving a “VirusDetect” rejection. Applicants should also scan files for viruses because the Grants.gov system will also reject files with viruses.

Applications received by Grants.gov, including those received during the grace period, must be validated by Grants.gov to be rated or ranked or receive funding consideration by HUD. HUD will use the date and time stamp on the Grants.gov system to determine dates when the grace period begins and ends.

b. Applications uploaded to Grants.gov after the deadline date under the following circumstances do not qualify for the grace period and will not be considered for funding:

(1) Applications uploaded and received by Grants.gov after the deadline date and time for which there is no prior rejection notice in the Grants.gov system logs will be considered late and will not be rated and ranked or receive funding consideration. Failure to successfully upload the application to Grants.gov by the deadline date and time does not qualify for the grace period as described above.

(2) Applications receiving a rejection notice due to the funding opportunity being closed will not be provided the one day grace period to correct the “opportunity closed” deficiency or any other basis for rejection because the applicant missed the deadline date and time and therefore does not qualify for the grace period as described above.

(3) If an application is uploaded during the grace period and is subsequently rejected after the grace period ends, the applicant will not be afforded additional time to correct the deficiency(ies) noted in the rejection notice.

c. The grace period ends at 11:59:59 p.m. one day from the date stamp on the first rejection notice issued by the Grants.gov system to the e-mail address provided in the Grants.gov registration. Applicants must ensure that their e-mail notification address contained in the Grants.gov registration is up-to-date. Neither HUD nor Grants.gov will be responsible if e-mail messages are not received at the address listed in the registration process. Applicants must also ensure that their e-mail systems will accept messages from Grants.gov. Applicants are responsible for monitoring their e-mail messages. Messages from Grants.gov come from Support@grants.gov.

d. The only exceptions to HUD's grace period policy are:

(1) The Grants.gov system is down and not available to applicants for at least 24 hours prior to the deadline date, or the system is down for 24 hours or longer, impacting the ability of applicants to cure a submission deficiency within the grace period; and/or

(2) There is a presidentially declared disaster in the applicant's area. In the event of either or both of these events, HUD will publish a notice extending the deadline or cure period, for applicants affected, as appropriate.

e. Busy servers or slow processing are not the basis for HUD to extend the deadline dates or the grace period.

Applicants are advised to monitor the Grants.gov system using the Grants.gov blog at http://grants-gov.blogspot.com/. The Grants.gov blog provides information on server capacity, traffic on the Grants.gov site, and other federal grant closings each day. Applicants should monitor the site and take into account the amount of traffic on the site when applying.

2. An applicant will not be provided additional opportunities to correct rejection errors if an application is rejected after the one-day grace period has expired.

As with any electronic system, applicants may experience issues when attempting to submit their application which does not permit the uploading of the application to Grants.gov. Such issues can be due to firewall and virus protection software that the applicant has placed on their system or network; proxy and cache settings; Internet traffic; limitation on the size of the files attempting to be transmitted established at the applicant's site or by the applicant's Internet provider; Grants.gov servers experiencing busy traffic; or any number of issues. Therefore, HUD strongly advises applicants to submit their applications at least 48 hours prior to the deadline and when the Grants.gov Help Desk is open so that assistance can be provided. Assistance may require diagnosing an applicant's particular issues. An applicant that does not follow HUD's advice increases the applicant's risk of not being able to meet the timely receipt requirements. A submission attempt less than the recommended 48 hours before the deadline does not allow the time needed to research the reason for the problem or to work with the applicant in overcoming the uploading difficulty. Similarly, attempting to submit within 24 hours of the deadline or when the Grants.gov Help Desk is closed does not allow the time needed for Grants.gov or HUD to provide the needed assistance. In addition, HUD staff cannot provide assistance or contact Grants.gov on your behalf after the Help Desk is closed.

3. Grants.gov Application Processing Steps and Notifications.

After successful upload of an application to Grants.gov, the following processes will occur:

a. Confirmation of Submission to Grants.gov. When an application is successfully uploaded to Grants.gov, the AOR submitting the application will receive a confirmation screen on his or her computer that informs the submitter that the application has been successfully uploaded to Grants.gov and is being processed. This confirmation will include a tracking number. Print this confirmation out and save it for your records. If you submitted multiple applications, check your confirmation for each application submitted. The tracking number, CFDA Number, and Funding Opportunity Number, as well as the date and time of submission will appear on the confirmation. If you do not receive this confirmation, it usually means that your application has not been successfully uploaded. If your screen goes blank or you have problems uploading or your computer is not saving files, it usually means that your computer does not have sufficient memory or processing capability to store and upload the application. If you experience these difficulties, you should go to http://www.grants.gov and log in using your user name and password, and then click on “Check Application Status.” If your application does not appear, you should immediately call Grants.gov support at 800-518-GRANTS for assistance (this is a toll-free number). If the Help Desk is closed, you should try reducing the size of your application or temporarily taking files off your computer to reduce the demand on your system. The files that were removed can be placed back on your system after uploading the application. (See information on Adobe Version 8.1.3 system requirements contained in section IV.B.6 of this General Section.) HUD also recommends checking to ensure that the applicant's firewalls and anti-virus software allows access to the Grants.gov system.

b. Application Submission Validation Check. The application will then go through a validation process. The validation check ensures that:

(1) The application is virus free (this includes that the file names comply with the required size limits and spacing and special characters limitations);

(2) The application meets the deadline requirements established for the funding opportunity (this includes the grace period and conditions cited earlier in this notice);

(3) The DUNS number submitted on the application matches the DUNS number in the registration, and that the AOR has been authorized to submit the application for funding by the organization identified by its DUNS number;

(4) The AOR has been authorized by the applicant's E-Biz POC to submit the application;

(5) All the mandatory (highlighted) fields and forms were completed on the application; and

(6) The correct version of Adobe Reader was used in completing the application package forms.

c. Application Validation and Rejection Notification. If the application fails any of the above items during the validation check, the grant application will be rejected and Grants.gov will send an e-mail to the person denoted by the applicant in the registration process to receive e-mail notifications from Grants.gov. The e-mail will indicate that the grant application has been rejected. The e-mail will also include the reasons why the application was rejected. The e-mail will come from Support@Grants.gov. The validation check can occur 24 to 48 hours after the application submission.

d. Applicants receiving a rejection notice have the opportunity to cure the rejection under the terms and provisions listed under HUD's grace period policy.

4. Receipt Dates and Times.

a. Timely Receipt Requirements and Proof of Timely Submission.

(1) Proof of Application Receipt. Receipt times and rejection notifications are automatically recorded by Grants.gov. An electronic time stamp is generated within the system when the application has been successfully received, the application has been validated, or when an application has been rejected. HUD will use these date stamps to determine whether an application meets the timely receipt requirements.

(2) Confirmation Receipt. Upon submitting an application at Grants.gov, the person submitting the application will see a confirmation screen appear on their computer. The confirmation advises the submitter that the application has been successfully uploaded to Grants.gov. This confirmation will also include the Grants.gov tracking number. Print the confirmation and save it with your records. If you do not receive the Confirmation screen, go to http://www.Grants.gov, and using the AOR user name and password, click on “Check Application Status.” If there is no data to display for the submitted application, the application was not successfully uploaded and not received by Grants.gov.

(3) Grants.gov Receipt E-mail. Shortly after displaying the successful submission Confirmation screen, Grants.gov will send a Receipt Notice to the e-mail address listed in the registration. The Receipt Notice will identify the application submitted and the date and time it was received by Grants.gov. HUD will use this date and time stamp to determine if the application was received by Grants.gov in accord with the timely submission requirements in this notice. The Receipt Notice merely acknowledges that an application was received. The next step in the process is the validation of the registration information against the DUNS number information and the applicant electronic signature in the application submitted to Grants.gov; and a check to see that there are no viruses in the application or that the attachment files met the file-naming conventions contained in this notice so as to be compatible with the Grants.gov system.

(4) Validation Receipt via E-mail. Within 24 to 48 hours after receiving the Receipt Notice e-mail, the applicant will receive a validation receipt or rejection notice via e-mail. The validation receipt indicates that the application has passed the validation review at Grants.gov and that the application is ready to be retrieved by the grantor agency for agency processing. Please be aware that the Grants.gov validation does not indicate that the grantor agency has reviewed the content of your application; rather, the validation merely indicates that the application has been successfully received and is ready for pickup by the grantor agency.

(5) Rejection Notice. If an application fails the validation process, the applicant is sent a rejection notice within 24 to 48 hours after the notification of receipt by Grants.gov. The e-mail notification will be sent to the e-mail address registered in the Grants.gov system to receive e-mail notifications. The applicant should review the rejection notice because it will include the reason(s) for rejection. If the rejection notice is received prior to the deadline date, the AOR should try to cure the deficiencies identified and resubmit the application as soon as possible prior to the deadline. If the rejection notice is received after the deadline date, the AOR should try to cure the deficiencies identified and resubmit the application prior to the end of the grace period. The most common rejection notices are:

(a) Invalid DUNS.

“The DUNS number entered in your package is invalid or does not match the DUNS number that is registered with the Central Contractor Registry (CCR). Please verify that the DUNS number is entered correctly, and is the same as in your Central Contractor Registry (CCR) registration.”

(b) Password ID.

If the submitter submits using a password not associated with the User ID or if the submitter forgets or confuses the password, the submitter will not be able to log onto Grants.gov. Attempts to log on using the wrong password/ID combination will result in a pop-up JAVA Script Window with a Warning Notice. The notice states “Grants.gov cannot log you in with the provided credentials. You have made 1 of 3 allowed failed logins. Please verify your user name and password and attempt to login again.” Applicants can get their password reset by going to their credential provider, obtaining a new password, registering that password at Grants.gov and having the E-Biz Point of Contact authorize the submitter as an AOR to submit the application under the applicant DUNS number using the registered credentials.

(c) Not Authorized.

(i) A User that uses a User ID/Password combination that is registered but has not been authorized by the applicant's E-Biz POC will receive a rejection message that states, “You are not designated by your organization to be an Authorized Organizational Representative and your application cannot be validated. You either have not successfully completed the registration process or your E-Biz POC has not authorized you to submit on behalf of your organization.” To verify whether you have been successfully registered with Grants.gov, click https://apply07.grants.gov/apply/ApplicantLoginGetID. To check to see if you have been designated by the E-Biz POC as an AOR, go to http://www.grants.gov/applicants/org_step6.jsp.

(ii) Applicants that may have an authorized user name/password but who enter the DUNS number incorrectly, or who use a DUNS number that they have not been authorized to use, will receive the “NOT AUTHORIZED” rejection in combination with the invalid DUNS message.

(iii) Individuals who attempt to apply for a grant for which individuals are not an eligible applicant, will receive the Not Authorized and Invalid DUNS rejection notices, plus a third rejection notice that states: “The grant opportunity for which you have applied is designated for Authorized Organization Representatives (AOR) only. However, your application or a grant/grants was not submitted on behalf of a company, organization, institution, or government. An AOR submits a grant on behalf of a company, organization, institution, or government. AORS have the authority to sign grant applications and the required certifications and/or assurances that are necessary to fulfill the requirements of the application process.”

(d) VirusDetect.

A VirusDetect rejection message can be received if the application contains a virus or if the application submission contains files which do not meet the file-naming conventions stated in this notice.

(6) Most Common Reasons for Rejection. HUD has found that the most common reason for rejection of an application by Grants.gov was the failure of the applicant to be authorized by their E-Biz POC to submit the application on behalf of the applicant organization. Fifty-nine percent of the rejection notices contained the unauthorized notice alone, indicating that they had used the correct DUNS number but had not completed all the steps in the registration process. The second-most common error was the use of spaces, special characters and file names longer than fifty characters in an attachment file name. Use of spaces, special characters, or file names that are longer than fifty characters will result in a “VirusDetect” error. Twenty-three percent of the rejections were due to “VirusDetect” errors. The third-most common error was not submitting the application using the correct DUNS number associated to the applicant organization for which the applicant was the authorized AOR. Six percent of the rejected applications failed validation for using a DUNS number that did not match the information in the Grants.gov registration. Use of a DUNS number that does not match the registration information results in three error messages.

(7) Save and File Receipts. Applicants should save all receipts from Grants.gov, as well as facsimile receipts, for proof of timely submission. Applicants will be considered meeting the timely submission requirements based upon the requirements in section IV.C., Receipt Dates and Times, and when all fax transmissions have been received by 11:59:59 p.m. on the deadline date stated in the program NOFA.

(8) Checking the Status of Your Application Online. Grants.gov allows applicants to check the status of their application online. To check your application status, log on at http://www.grants.gov and click on Applicant Login, and then enter your user name and password. Next, click on “Check Application Status.” All applications submitted by the applicant with the user name and password entered in the login screen will be identified and the status will be displayed. Applicants are obligated to check the on-line status of their application if they do not receive an immediate confirmation notice or an email notice of receipt as well as validation. HUD advises applicants to use this service to make sure the application was received by Grants.gov in accordance with section IV.C., entitled “Receipt Dates and Times,” and to track the application to see if it is validated or rejected by Grants.gov. Applications submitted after the one day grace period stipulated in Section IV.C., Receipt Dates and Times, will be considered late and will not receive funding consideration.

(9) Understanding the Status Messages. If the application has not been uploaded or received by Grants.gov, the status message will state, “No data to display.” Applicants seeing this message should attempt to submit their application if the deadline date has not passed. HUD will not accept an application that is received after the deadline date and time, if there is no prior record of a rejection notice.

If an application has been received, Grants.gov will note on the “Application Status” display that the application has been received. If the application has been received and validated, the status will display as validated.

If an application has been rejected, the status will display that the application has been rejected with errors and the applicant should click on the rejection to see what the error message was or should consult his or her email for the reasons for the rejection.

If an application has been received by HUD, the status will note that the application has been received by the granting agency.

When HUD assigns a tracking number, the status will indicate that the agency has assigned a tracking number.

Applications are not received by HUD until HUD pulls the application from Grants.gov. As long as the application shows validated by Grants.gov in accordance with the timely receipt requirement stated in this notice, applicants should not be concerned that the application was not received by HUD or not assigned a tracking number. That step of the process will occur when HUD pulls the applications from the Grants.gov site into its backend system.

(10) Grants.gov Support Ticket Numbers. If you call the Grants.gov Support Help Desk, the operator will provide you with a call reference ticket number. Applicants should retain a record of the call ticket number(s) along with the application receipts or rejection notices received from Grants.gov. If the Help Desk does not offer a ticket number, ask for one.

b. Late applications.

(1) Applications received by Grants.gov after the program NOFA deadline date or that do not meet the requirements of HUD's grace period policy will be considered a late application and will not be considered for funding. Applicants should pay close attention to the grace period policy and the timely receipt instructions, as they can make a difference in whether HUD will accept the application for funding consideration.

(2) HUD will not consider application information submitted by facsimile as part of the application, if received by HUD after the published deadline date, unless directed by HUD under the terms of paragraph V.B.4., Corrections to Deficient Applications. There is no grace period for submission of facsimile transmissions, as the facsimile system is not part of Grants.gov. HUD now has the ability to match the facsimile transmission to the last application received and validated in accordance with the deadline requirements. Please take into account the transmission time required for facsimile documents related to your application.

HUD recommends that applicants submit their applications during the operating hours of the Grants.gov Help Desk so that, if there are questions concerning transmission, operators will be available to assist you through the process. Submitting your application early and during the Help Desk hours will also ensure that you have sufficient time for the application to complete its transmission before the application deadline. If you try to submit your application after the Grants.gov Support Help Desk closes, please refer to HUD's Desktop Users Guide for Submitting Electronic Grant Applications found at http://www.hud.gov/offices/adm/grants and submission information contained in this notice.

c. Submission Tips.

(1) Delayed Transmission Time. Applicants using dial-up connections should be aware that transmitting your application takes extra time before Grants.gov receives it. Grants.gov will provide either an error or a successfully received transmission message. The Grants.gov Help Desk reports that some applicants abort the transmission because they think that nothing is occurring during the transmission process. Please be patient and give the system time to process the application. Uploading and transmitting a large file, particularly electronic forms with associated eXtensible mark-up language (XML) schema, will take considerable time to process and be received by Grants.gov. However, the upload even for large files should not take longer than one hour. If you are still waiting after one hour for the submission to be uploaded to Grants.gov, stop the transmission and check the available disk space and memory on your computer or check to see if you followed the submission requirements, including naming of files, and that you are using compatible versions of Adobe 8.1.3 with Adobe Professional on your computer operating system. HUD has found that difficulty in uploading an application from the applicant's desktop is most frequently due to: (a) Use of the wrong DUNS number or user name/password combination; (b) the application package being too large to be handled by the applicant's computer; (c) the applicant not downloading and setting the default settings to be compatible with the version of Adobe Reader downloaded; (d) the local entity's network limiting the size of files going in or out; (e) the Internet service provider having a file size limit (it often depends on the level of service contracted for); (f) the applicant's firewall is set to limit files going in or out, or access to certain Web sites; and (g) the applicant's anti-virus software or system set-up has placed other limits on accessing websites or file contents. HUD has found that if applicants, when uploading their applications, were first asked to permit access, it was usually because their firewall settings were preventing access to other websites, which resulted in submission failures. Applicants should check their firewall setting prior to beginning transmission to allow access to the Grants.gov portal. If you, the applicant, are experiencing long upload delays, or you receive a time-out error message, you should check your package for errors, anti-virus software, firewall, or Internet provider to be sure that there are no file size limits, and work with your IT support to address Internet, firewall, and anti-virus issues. In many instances, firewall and anti-virus protection can cause transmission problems and need to be disabled to permit a successful transmission. Applicants should also check their proxy and cache server configuration settings to ensure the application can be transmitted to Grants.gov. Grants.gov uses HTTP post protocols on Port 80.

Please also ensure that file attachments are named in accord with the directions in this General Section. Be aware that multiple applications on a computer or very large files can overcome the processing power of a computer. If this is the case, you are advised to reduce the number and size of the attachment files by removing attachment files and submitting the attachments via the facsimile method, using the form HUD-96011 as the cover page, while the application without attachments should be uploaded to Grants.gov. HUD will match applications submitted to Grants.gov with facsimiles that have been transmitted following the directions in this notice. Do not split attachment files into two separate applications. HUD can only view the contents of a single application. For HUD to review the complete application, files must be transmitted with the application or associated with an application through use of the facsimile using the Facsimile Transmittal Cover Sheet (form HUD-96011). HUD will not match attachment files submitted either in two applications, or without using the cover sheet.

(2) Using Task Manager to Monitor Processing. Applicants experiencing long upload times or seeing a screen that states “Processing do not close,” can check to see if the application is frozen or just taking awhile to upload by turning on the Task Manager to see if there is any processing occurring. To view the Task Manager, press Ctrl+Alt+Delete (by holding down Ctrl and Alt and then pressing Delete). A dialog box will appear; select Task Manager. There are four tabs across the top of the Task Manager. Select the Performance tab; then you will see two pairs of windows: CPU and Page file usage and usage history. The little windows on the right side (usage history) look like little graphs moving from right to left about one tick every second. As long as those graphs continue to move toward the left, you know your machine is not frozen. If the graph lines stop moving for more than a few seconds, your machine is totally frozen and you should immediately shut down the application, remove cookies, close down and reboot your computer, and then try to upload again.

(3) Uploading Directly from Your Internet Browser. If you have difficulty submitting the application, close down all applications, then reboot your computer and follow these steps:

(a) Open the Internet Explorer browser on your computer.

(b) Go to the File Menu and select “Open.” This will cause the “Open” dialog box to appear.

(c) Click on the browse button, and another dialog box will appear with access to your files.

(d) In the dialog box, go to the drop-down menu for “File Types” and select “All Files.”

(e) Through the dialog box, find the location of your saved application package (including the attachments).

(f) Once you have located your application package, select it with your mouse and click the “Open” button. The dialog box will disappear and the “Open” dialog box will still be present.

(g) In the “Open” dialog box, click on the “OK” button. Your application package will now appear.

(h) Within your application package, to submit, click on the “Submit and Save” button.

(4) Ensure You Have Installed the Free Grants.gov Software. Check to ensure that the latest version of the Adobe Reader software available from Grants.gov, which is free for system users, has been properly installed on your computer. Applicants will find a link to the free software for download at the Download Application page for the funding opportunity available on Grants.gov. HUD has found that an improper installation or not using the recommended version of the Adobe Reader 8.1.3 software will result in an application not being able to upload properly. If you are not sure how to determine if the software is properly installed, call the Grants.gov Support Desk. If you are operating your computer through a network, contact your system administrator to download the latest software. Please allow sufficient time for your network system administrator to respond to your request.

5. Adobe Reader Error Messages.

The following are common error messages applicants may encounter while completing or uploading an Adobe Reader application package.

a. An Error Message Occurred During File Transmission.

This error message means that you are experiencing network connectivity issues or the network is slow. The file that you are attempting to upload is NOT being fully transmitted to Grants.gov. Grants.gov recommends that you check the Internet connection or contact your IT support staff to check your network connectivity and then try again. Please remember that often networks or Internet service providers have limits on the size of files transmitted. Often Internet service providers require an upgrade in service to transmit larger files or unlimited size files. This may also be true for internal organizational networks.

b. COS Parsing Exception at Position#######.

If you receive this error message, the application package you submitted is corrupt and you have to resubmit a new application. Applicants are advised not to use data from the corrupt application to copy and paste into the new application because it is likely to corrupt the new application or cause transmission errors. Applicants should close and delete the corrupt file, download a new application package, open, complete the package manually and submit using a supported version of Adobe Reader. HUD also advises applicants that have attempted to upload the package through their browser to shut the browser and close all applications, delete any cookies, and then reboot before trying to resubmit.

c. Error: org.xml.sax.SAXParseException:

In most cases this error indicates the form opened with software that is unsupported such as:

• An incompatible version of Adobe Acrobat Professional.

• An incompatible version of Adobe Reader (other than 8.1.3).

• Other Software.

In order to submit an Adobe Reader application package, you must have a compatible version of Adobe Reader. If you have received this error message it is recommended that you download a new application package then open, complete and submit it with the compatible version of Adobe Reader. If you collaborate on the application with others, please ensure that they have the compatible version of the Adobe Reader. If they have more than one version of the Adobe Reader on their computer advise them to either reset the default setting or remove the non-compatible version of Adobe Reader and replace it with the free Adobe Reader software from Grants.gov. HUD also advises applicants that have attempted to upload the package through their browser to shut the browser and close all applications, delete any cookies, and then reboot before trying to resubmit.

d. File Damaged and Cannot Be Repaired.

This error message means that your application package is corrupt. In order to successfully submit an application package, you will need to download a new application and resubmit. To avoid corruption you must use a compatible version of the Adobe Reader to view and complete the application.

e. Incompatible version of Adobe.

You will receive this error message if your application was opened with software other than a compatible version of Adobe Reader. Any and all edits made to an Adobe Reader application package must be made with a compatible version of Adobe Reader. Applications submitted with other than supported versions of Adobe Reader will not work with the Grants.gov system. The compatible version of Adobe Reader is available at the Grants.gov Web site at http://www.adobe.com/products/acrobat/readstep2_allversions.html.

f. Schema Validation Error.

In most cases this error message indicates the application package was opened at one point in time with an unsupported version of:

• Adobe Reader.

• Adobe Professional.

• Other Software.

You should download a new application package, open and complete the package manually and submit using a supported version of the Adobe Reader. You cannot use an existing corrupted package or data from the package to export and populate a new package because it is likely to corrupt the new package and/or cause submission errors.

g. Intake Servlet is Unable to Save the Data.

This is an error message that may occur during Grants.gov processing. Grants.gov will reprocess the application retaining the original submission dates and times. Processing may result in validation or rejection of the application. See information on reasons for rejection of an application. Applicants receiving the “Intake Servlet Unable to Save the Data” error message should check the status of their application by logging onto Grants.gov with their user name and password and checking the application status. If the status does not show the application received call the Grants.gov Help Desk.

h. Broken Pipe. If you receive the “Broken Pipe” message, this means that there were intermittent interruptions during submission. As a result the confirmation screen did not display properly after you submitted your application. If the “Broken Pipe” error message displays, you will not automatically receive a Grants.gov confirmation page and tracking number for your application. To ensure that your application package was received you have two options:

(1) Use the on-line “Track Application Status” feature on Grants.gov and view your submitted applications. If you do not see your submitted application listed follow the instructions under item (b):

(2) Open the Internet browser window (example: Internet Explorer) and resubmit your application package as normal. If you still do not receive the confirmation page after you resubmit your application package, contact the Grants.gov Help Desk by calling 800-518-GRANTS or e-mailing Support@Grants.gov. HUD recommends calling the center for faster service.

i. Error: Failed to Update Grant Application XML's LOB:Failed to Update Grant Application XML's LOB. Grants.gov automatically reprocesses these applications. You should receive a receipt notification and either a rejection or validation notice following reprocessing. Applicants are advised to track the applications via the on-line “Track Application Status,” the e-mail notifications or by calling the Grants.gov Help Desk. Reprocessed applications retain their original receipt times.

Grants.gov has also established a troubleshooting page for applicants at http://www.grants.gov/help/trouble_tips.jsp. Applicants are advised to be familiar with this page and pass on this information and the General Section instructions to any persons working on your application or charged with submitting the application on behalf of your organization.

D. Intergovernmental Review/State Points of Contact (SPOC). Executive Order 12372, “Intergovernmental Review of Federal Programs,” was issued to foster intergovernmental partnership and strengthen federalism by relying on state and local processes for the coordination and review of federal financial assistance and direct development. HUD implementing regulations are published at 24 CFR part 52. The Executive Order allows each state to designate an entity to perform a state review function. Applicants can find the official listing of SPOCs for this review process at http://www.whitehouse.gov/omb/grants/spoc.html. States not listed on the Web site have chosen not to participate in the intergovernmental review process and, therefore, do not have a SPOC. If your state has a SPOC, you should contact the SPOC to see if it is interested in reviewing your application before you submit it to HUD.

Please make sure that you allow ample time for this review when developing and submitting your application. If your state does not have a SPOC, you can submit your application directly to HUD using Grants.gov.

E. Funding Restrictions. The individual program NOFAs will describe any funding restrictions that apply to each program.

F. Other Submission Requirements.

1. Discrepancies Between the Federal Register and Other Documents. The Federal Register documents published by HUD are the official documents that HUD uses to solicit applications. Therefore, if there is a discrepancy between any materials published by HUD in its Federal Register publications and other information provided in paper copy, electronic copy, at http://www.grants.gov, or its Help Desk, or at HUD's Web site, the Federal Register publication prevails. Please be sure to review your application submission against the requirements in the Federal Register for the program NOFA or NOFAs to which you are applying. If you note discrepancies, please notify HUD immediately by calling the program contact listed in the NOFA, or the Office of Departmental Grants Management at 202-708-0667 (this is not a toll-free number).

2. Application Certifications and Assurances. Applicants are placed on notice that by signing (either through electronic submission or in paper copy submission, for those applicants granted a waiver to submit in paper) the SF-424 cover page:

a. The governing body of the applicant's organization has duly authorized the application for federal assistance. In addition, by signing or electronically submitting the application, the AOR certifies that the applicant:

(1) Has the legal authority to apply for federal assistance and has the institutional, managerial, and financial capacity (including funds to pay for any non-federal share of program costs) to plan, manage, and complete the program as described in the application;

(2) Will provide HUD with any additional information it may require; and

(3) Will administer the award in compliance with requirements identified and contained in the NOFA (General and Program Sections), as applicable to the program for which funds are awarded and in accordance with requirements applicable to the program.

b. No appropriated federal funds have been paid or will be paid, by or on behalf of the applicant, to any person for influencing or attempting to influence an officer or employee of any agency, a member of Congress, or an employee of a member of Congress, in connection with this application for federal assistance or any award of funds resulting from the submission of this application for federal assistance or its extension, renewal, amendment, or modification. If funds other than federally appropriated funds have been or will be paid for influencing or attempting to influence the persons listed above, the applicant agrees to complete and submit the SF-LLL, Disclosure of Lobbying Activities, as part of its application submission package. The applicant further agrees to and certifies that it will require similar certification and disclosure of all subawards at all tiers, including subgrants and contracts.

c. Federally recognized Indian tribes and tribally designated housing entities (TDHEs) established by a federally recognized Indian tribe, as a result of the exercise of the tribe's sovereign power, are excluded from coverage by item b. (also known as the Byrd Amendment). However, state-recognized Indian tribes and TDHEs established under state law are not excluded from the statute's coverage and, therefore, must comply with item b. above.

By submitting an application, the applicant affirms its awareness of these certifications and assurances. The AOR submitting the application is affirming that these certifications and assurances are material representations of the facts upon which HUD will rely when making an award to the applicant. If it is later determined that the signatory to the application submission knowingly made a false certification or assurance or did not have the authority to make a legally binding commitment for the applicant, the applicant may be subject to criminal prosecution, and HUD may terminate the award to the applicant organization or pursue other available remedies.

3. Waiver of Electronic Submission Requirements. The regulatory framework for HUD's electronic submission requirement is the final rule established in 24 CFR 5.1005. Applicants seeking a waiver of the electronic submission requirement must request a waiver in accordance with 24 CFR 5.1005. HUD's regulations allow for a waiver of the electronic submission requirement for good cause. If the waiver is granted, the applicable program office's response will include instructions on how many copies of the paper application must be submitted, as well as how and where to submit them. Applicants that are granted a waiver of the electronic submission requirement will not be afforded additional time to submit their applications. The deadlines for applications will remain as provided in the program section of the NOFA. As a result, applicants seeking a waiver of the electronic application submission requirement should submit their waiver request with sufficient time to allow HUD to process and respond to the request. Applicants should also allow themselves sufficient time to submit their application so that HUD receives the application by the established deadline date. For this reason, HUD strongly recommends that if an applicant finds it cannot submit its application electronically and must seek a waiver of the electronic grant submission requirement, it should submit the waiver request to the HUD program office designated in the applicable program NOFA no later than 15 days before the application deadline. To expedite the receipt and review of such requests, applicants may email their requests to the program contact listed in the program NOFA. If HUD does not have sufficient time to process the waiver request, a waiver will not be granted. Paper applications received without a prior approved waiver and/or after the established deadline date will not be considered. Applicants that submit a paper application with the wrong DUNS number will be provided the same one-day grace period to provide a corrected SF-424 to the location indicated in the waiver approval. Failure to meet the requirements will deem the application late and, as a result, the application will not be considered, rated, or ranked.

V. Application Review Information

A. Criteria

1. Factors Used to Evaluate and Rate Applications. For each program NOFA, the points awarded for the rating factors total 100, with a possibility of up to 2 bonus points, as specified below:

a. RC/EZ/EC-II. HUD will award two bonus points to each application that includes a valid form HUD-2990 certifying that the proposed activities/projects in the application are consistent with the strategic plan for an empowerment zone (EZ) designated by HUD or the U.S. Department of Agriculture (USDA), the tax incentive utilization plan for an urban or rural renewal community designated by HUD (RC), or the strategic plan for an enterprise community designated in round II by USDA (EC-II); and that the proposed activities/projects will be located within the RC/EZ/EC-II identified above and are intended to serve the residents. For ease of reference in this notice, all of the federally designated areas are collectively referred to as “RC/EZ/EC-IIs” and residents of any of these federally designated areas as “RC/EZ/EC-II residents.” The individual funding announcements will indicate if the bonus points are available under the program. This notice contains a certification that must be completed for the applicant to be considered for RC/EZ/EC-II bonus points. Applicants can obtain a list of RC/EZ/EC-IIs from HUD's grants Web page at http://www.hud.gov/offices/adm/grants/fundsavail.cfm. Applicants can determine if their program or project activities are located in one of these designated areas by using the locator on HUD's Web site at http://egis.hud.gov/egis/.

b. The Five Standard Rating Factors for FY2009. HUD has established the following five standard factors for awarding funds under the majority of its FY2009 program NOFAs. When providing information to HUD in response to Rating Factor 1, Capacity, applicants should not include Social Security Numbers on any resumes submitted to HUD.

Factor 1: Capacity of the Applicant and Relevant Organizational Staff.

Factor 2: Need/Extent of the Problem.

Factor 3: Soundness of Approach.

Factor 4: Leveraging Resources.

Factor 5: Achieving Results and Program Evaluation.

In FY2009, HUD is establishing standardized points for evaluating Logic Models submitted under Rating Factor 5, Achieving Results and Program Evaluation. The decision to standardize this rating factor resulted from review of submitted Logic Models and rating factor narrative statements, and training sessions held with HUD staff and the applicant community.

By standardizing the rating for the Logic Model submission, HUD believes that a greater understanding will be gained on the use and relationship of the Logic Model to information submitted as part of the Rating Factors for award. The standardization of the Logic Model submission in Rating Factor 5 highlights the relationship between the narratives produced in response to the factors for award, stated outputs and outcomes, and discrepancies or gaps that have been found to exist in submitted Logic Models. HUD also believes that the standardization will strengthen the use of the Logic Model as a management and evaluation tool.

The Logic Model is a tool that integrates program operations and program accountability. It links program operations (mission, need, intervention, projected results, and actual results), and program accountability (measurement tool, data source, and frequency of data collection and reporting, including personnel assigned to function). Applicants/grantees should use it to support program planning, monitoring, evaluation, and other management functions.

HUD uses the Logic Model and its electronic version, the eLogic Model®, to capture an executive summary of the application submission in data format, which HUD uses to evaluate the attainment of stated applicant goals and anticipated results. HUD also uses the data for policy formulation.

HUD encourages applicants and those selected for award to use the Logic Model data to monitor and evaluate their own progress and effectiveness in meeting stated goals and achieving results consistent with the program purpose. To further this objective, and in response to grantee requests, for FY2009 HUD has added an additional column to the eLogic Model® that allows the grantee to input results achieved for the reporting period, as well as Year-To-Date (YTD) for each year of the award. This will allow the grantee to review performance each reporting period and for each year of the award “at a glance,” and without having to construct a report. For further information, see the Instructions in the FY2009 eLogic Model®, form HUD-96010. HUD's goal is to measure the effectiveness of programs and ensure that housing, economic development programs, and services provided by HUD funds provide maximum benefit to low- and moderate-income persons in communities nationwide.

Factor 5, Achieving Results and Program Evaluation, will consist of 10 points for the Logic Model submission. Program areas can add up to an additional 5 points for responses to particular programmatic questions to be addressed as part of this factor. The matrix provided in Attachment 1 of this General Section identifies how the Logic Model will be rated in a standardized way across program areas. Training on the rating factor will be provided via satellite broadcast and archived on HUD's Web site for repeat viewing.

Additional details about the five rating factors and the maximum points for each factor are provided in the program NOFAs. For a specific funding opportunity, HUD may modify these factors to take into account explicit program needs or statutory or regulatory limitations. Applicants should carefully read the factors for award as described in the program NOFA to which they are responding.

The Continuum of Care Homeless Assistance programs have only two factors that receive points: (1) Need and (2) Continuum of Care. Additional information will be available in the Continuum of Care program NOFA to be published in the Federal Register.

c. Additional Criteria: Past Performance. In evaluating applications for funding, HUD will take into account an applicant's past performance in managing funds, including, but not limited to, the ability to account for funds appropriately; timely use of funds received either from HUD or other federal, state, or local programs; timely submission and quality of reports to HUD; meeting program requirements; meeting performance targets as established in Logic Models approved as part of the grant agreement; timelines for completion of activities and receipt of promised matching or leveraged funds; and the number of persons to be served or targeted for assistance. HUD may consider information available from HUD's records; the name check review; public sources such as newspapers, Inspector General or Government Accountability Office reports or findings; or hotline or other complaints that have been proven to have merit.

In evaluating past performance, HUD may elect to deduct points from the rating score or establish threshold levels as specified under the Factors for Award in the individual program NOFAs. Each program NOFA will specify how past performance will be rated.

B. Reviews and Selection Process

1. HUD's Strategic Goals to Implement HUD's Strategic Framework and Demonstrate Results. HUD is committed to ensuring that programs result in the achievement of HUD's strategic mission. To support this effort, grant applications submitted for HUD programs will be rated on how well they tie proposed outcomes to HUD's policy priorities and annual goals and objectives, as well as the quality of the applicant's proposed evaluation and monitoring plans. HUD's strategic framework establishes the following goals and objectives for the Department:

a. Increase Homeownership Opportunities.

(1) Expand national homeownership opportunities.

(2) Increase minority homeownership.

(3) Make the home buying process less complicated and less expensive.

(4) Reduce predatory lending through reform, education, and enforcement.

(5) Help HUD-assisted renters become homeowners.

(6) Keep existing homeowners from losing their homes.

b. Promote Decent Affordable Housing.

(1) Expand access to and the availability of decent, affordable rental housing.

(2) Improve the management accountability and physical quality of public and assisted housing.

(3) Improve housing opportunities for the elderly and persons with disabilities.

(4) Promote housing self-sufficiency.

(5) Facilitate more effective delivery of affordable housing by reforming public housing and the Housing Choice Voucher program.

c. Strengthen Communities.

(1) Assist disaster recovery in the Gulf Coast region.

(2) Enhance sustainability of communities by expanding economic opportunities.

(3) Foster a suitable living environment in communities by improving physical conditions and quality of life.

(4) End chronic homelessness and move homeless families and individuals to permanent housing.

(5) Address housing conditions that threaten health.

d. Ensure Equal Opportunity in Housing.

(1) Ensure access to a fair and effective administrative process to investigate and resolve complaints of discrimination.

(2) Improve public awareness of rights and responsibilities under fair housing laws.

(3) Improve housing accessibility for persons with disabilities.

(4) Ensure that HUD-funded entities comply with fair housing and other civil rights laws.

e. Embrace High Standards of Ethics, Management, and Accountability.

(1) Strategically manage human capital to increase employee satisfaction and improve HUD performance.

(2) Improve HUD's management and internal controls to ensure program compliance and resolve audit issues.

(3) Improve accountability, service delivery, and customer service of HUD and its partners.

(4) Capitalize on modernized technology to improve the delivery of HUD's core business functions.

f. Promote Participation of Faith-Based and Other Community Organizations.

(1) Reduce barriers to faith-based and other community organizations' participation in HUD-sponsored programs.

(2) Conduct outreach and provide technical assistance to strengthen the capacity of faith-based and community organizations to attract partners and secure resources.

(3) Encourage partnerships between faith-based/other community organizations and HUD's grantees and subgrantees.

Additional information about HUD's Strategic Plan FY2006-FY2011, and 2002-2008 Annual Performance Plans is available at http://www.hud.gov/offices/cfo/reports/cforept.cfm.

2. Policy Priorities. HUD encourages applicants to undertake specific activities that will assist the Department in implementing its policy priorities and achieving its goals for FY2009 and beyond. Applicants that include work activities that specifically address one or more of these policy priorities will receive higher rating scores than applicants that do not address these HUD priorities. Each NOFA issued in FY2009 will specify which priorities relate to a particular program and how many points will be awarded for addressing those priorities.

a. Improving the Knowledge of Homeowners, Homebuyers, and Renters to be Aware of Discriminatory Practices in Real Estate and Lending; their Rights; and Increase Financial Literacy to Prevent Foreclosure to Address the Needs of Households Facing Foreclosure.

Many households are currently at risk of losing their homes or are currently facing foreclosure procedures. Other households, particularly households composed of low- and moderate-income persons, persons with disabilities, the elderly, minorities, and persons with limited English proficiency are shut out of the housing market or face discriminatory lending or rental practices. HUD is interested in applicants undertaking the following types of activities to address the needs of these households such as:

(1) Providing Credit Counseling and Education for Families and Individuals.

• How to track spending and establishing a household budget;

• Managing credit cards and credit card debt;

• Understanding a credit report and how to improve credit scores;

• Establishing a savings plan and investment plan;

• How to prevent foreclosure;

• Understanding the foreclosure process and options open to homeowners;

• Buying a foreclosed home—opportunities and risks.

(2) Homebuying Information for New Homeowners.

• Buying a new home;

• Buying an FHA Real Estate Owned Property;

• Buying a foreclosed property;

• Understanding loan alternatives;

• Understanding FHA mortgages and options;

• Financial ability to repay a loan;

• Accounting for additional expenses;

• Understanding the appraisal process;

• Understanding a home inspection process and report;

• Understanding predatory lending practices; and

• Understanding your rights under the Fair Housing Act and fair lending practices;

(3) Rental Housing Options.

• Understanding lease agreements;

• Understanding landlord tenant rights and responsibilities;

• Understanding lending discrimination; and

• Understanding discriminatory rental practices and where to seek assistance;

(4) How to file a housing discrimination complaint.

(5) Complying with Limited English Proficiency requirements.

(6) Addressing the needs of homeowners, homebuyers, and renters who are persons with disabilities;

• How to design informational literature and presentations for persons with disabilities,

• Understanding accessible design and visibility standards for educating architects, builders, local, and state officials to increase the housing choices for persons with Limited English Proficiency or persons with disabilities;

• Understanding how to market to persons with disabilities; and

• Educating persons with disabilities on Uniform Accessibility Standards (UFAS), which apply to section 504 of the Rehabilitation Act of 1973.

Applicants seeking a policy priority point must identify the specific activities to be undertaken and the expected outcomes to be achieved as a result of the activities. The outcomes must be expressed in terms of the numbers of households assisted that either obtained rental housing or achieved homeownership; were able to improve their credit score or prevent foreclosure; were able to retain their home after having received a notice of foreclosure; were able to obtain a mortgage loan or reduce the rate or the amount owed on their mortgage; were able to find affordable rental housing that is accessible and visitable; or reported and/or filed a Fair Housing complaint. Copies of the UFAS are available online at http://www.access-board.gov/ufas/ufas-html/ufas.htm. The design and construction requirements for covered multifamily dwelling units that are applicable to the Fair Housing Act are found at http://www.fairhousingfirst.org and select “Design or Construction Requirements.”

Proposed activities support strategic goals a, b, and d.

b. Encouraging Accessible Design Features. As described in section III.C.2.c., applicants must comply with applicable civil rights laws, including the Fair Housing Act, section 504 of the Rehabilitation Act of 1973, and the Americans with Disabilities Act. These laws and regulations implementing them prohibit discrimination based on disability and require recipients to ensure that assisted housing, facilities, programs, and activities are accessible to persons with disabilities, including meeting accessibility design standards. HUD is encouraging applicants to add accessible design features beyond those required under civil rights laws and regulations. Such features would eliminate barriers not addressed by design standards that limit the access of persons with disabilities to housing and other facilities. Copies of the UFAS are available online at http://www.access-board.gov/ufas/ufas-html/ufas.htm; from the NOFA Information Center at 800-HUD-8929 (toll free); and from the Office of Fair Housing and Equal Opportunity, Department of Housing and Urban Development, 451 Seventh Street, SW., Room 5240, Washington, DC 20410-2000; telephone number 202-708-2333 (this is not a toll-free number). Persons with hearing or speech impairments may access these numbers via TTY by calling the Federal Information Relay Service at 800-877-8339. (This is a toll-free number.)

Accessible design features are intended to promote visitability and incorporate features of universal design, as described below.

(1) Visitability in New Construction and Substantial Rehabilitation. Applicants are encouraged to incorporate visitability features, where feasible, in new construction and substantial rehabilitation projects. Visitability features allow a person with mobility impairments access into the home, even if such features are not required by accessibility standards. Applicants should be aware of any locally adopted visitability standards. Generally, visitability standards or guidelines do not require that all features of a housing or other facility be made accessible to a person with a disability. Visitability means that there is at least one entrance at grade (no steps), approached by an accessible route such as a sidewalk, and that the entrance door and all interior passage doors are at least 2 feet, 10 inches wide, allowing 32 inches of clear passage space. A visitable home also serves persons without disabilities, such as a mother pushing a stroller or a person delivering a large appliance. More information about visitability is available at http://www.concretechange.org/.

Activities support strategic goals b, c, and d.

(2) Universal Design. Applicants are encouraged to incorporate universal design in the construction or rehabilitation of housing, retail establishments, and community facilities funded with HUD assistance. Universal design is the design of products and environments to be usable by all people to the greatest extent possible, without the need for adaptation or specialized design. The intent of universal design is to simplify life for everyone by making products, communications, and the built environment more usable by as many people as possible at little or no extra cost to the user. In addition to any applicable required accessibility feature under section 504 of the Rehabilitation Act of 1973 or the design and construction requirements of the Fair Housing Act, the Department encourages applicants to incorporate the principles of universal design when developing housing, community facilities, and electronic communication mechanisms, or when communicating with community residents at public meetings or events.

HUD believes that to address affordable housing needs effectively, it is necessary to provide affordable housing that is accessible to all regardless of ability or age. Likewise, creating places where people work, train, and interact that are usable and open to all residents increases opportunities for economic and personal self-sufficiency. More information on universal design is available from the Center for Universal Design at http://www.design.ncsu.edu/cud/ or the Resource Center on Accessible Housing and Universal Design at http://www.abledata.com/abledata.cfm?pageid=113573&top=16029&sectionid=19326.

To obtain the policy priority point, applicants must identify the proposed number of units or facilities which will be provided that incorporate Universal Design and/or Visitability Features, including what features are planned for inclusion in the design and for how many units. Individual NOFAs will identify the minimum number of units or community facility areas that must comply with this requirement to receive the policy priority point. Selected applicants will be required to report on an annual basis the number of units that were completed according to the plan; and the actual number of households that were placed in the units, including the square footage of units or public facilities or common areas. Applicants must identify visitability features that will be part of their program of activities and its projected results, including linear feet of sidewalk, walkway, or other areas that were created or modified to enhance visitability or meet locally adopted visitability requirements.

Activities support strategic goals a through d.

c. Providing Full and Equal Access to Grassroots Faith-Based and Other Community Organizations in HUD Program Implementation.

(1) HUD encourages applicants to partner with nonprofit organizations, including grassroots faith-based and other community organizations, in the implementation of the vast array of programs for which funding is available through HUD's competitive programs. Grassroots organizations have a strong history of providing vital community services. Additionally, HUD encourages applicants to include grassroots faith-based and other community organizations in their work plans. Applicants who identify at least 15 percent of the total work activities to be conducted will be performed by grassroots nonprofit organizations, including faith-based and community-based organizations in their program work statement and implementation activities, will be eligible to receive the policy priority point.

(2) Definitions of Grassroots Organizations.

(a) HUD will consider an organization a “grassroots organization” if the organization is headquartered in the local community in which it provides services; and

(i) Has a social services budget of $300,000 or less, or

(ii) Has six or fewer full-time equivalent employees.

(b) Local affiliates of national organizations are not considered “grassroots.” Local affiliates of national organizations are encouraged, however, to partner with grassroots organizations, but must demonstrate that they are currently working with a grassroots organization (e.g., having a grassroots faith-based or other community organization provide volunteers).

(c) The cap provided in paragraph (2)(a)(i) above includes only that portion of an organization's budget allocated to providing social services. It does not include other portions of the budget, such as salaries and expenses, not directly expended in the provision of social services.

Applicants will be required to identify and describe in detail the work activities to be performed by the grassroots organizations including projected outputs and outcomes in their application for assistance. Selected applicants for funding will be required to report in accordance with the reporting requirements for the program, the results achieved against the projected outputs and outcomes.

Activities support strategic goal f.

d. Participation of Minority-Serving Institutions (MSIs) in HUD Programs. Pursuant to Executive Orders 13256, “President's Board of Advisors on Historically Black Colleges and Universities;” 13230, “President's Advisory Commission on Educational Excellence for Hispanic Americans;” 13216, “Increasing Participation of Asian Americans and Pacific Islanders in Federal Programs;” and 13270, “Tribal Colleges and Universities,” HUD is strongly committed to broadening the participation of MSIs in its programs. HUD is interested in increasing the participation of MSIs in providing assistance to New Orleans and other communities that suffer from the long-term and devastating effects of presidentially-declared disasters which are currently listed as active on the Federal Emergency Management Agency's (FEMA) Web site. To receive the policy priority point, the applicant must include a listing of the proposed work activities to be performed by the MSI; the specific sites where the work will be performed; and the projected output and outcome of the work to be performed that will result in a physical, social, or economic change in the community being assisted as a result of the work activities. MSIs that receive direct HUD funding are not eligible to receive the policy priority point unless they can demonstrate that their work activities are targeted to disaster areas and not just areas surrounding their campus, unless it is a city or community that experienced a declared and active disaster determined by the President. A listing of MSIs can be found on the Department of Education Web site at http://www.ed.gov/about/offices/list/ocr/edlite-minorityinst.html or HUD's Web site at http://www.hud.gov/offices/adm/grants/fundsavail.cfm. A listing of presidentially declared disasters can be found at http://www.fema.gov/news/disaster_totals_annual.fema.

Activities support strategic goals c and d.

e. Ending Chronic Homelessness. President Bush has set a national goal to end chronic homelessness. HUD Secretary Steven Preston has embraced this goal and has pledged that HUD's grant programs will be used to support the President's goal and better meet the needs of chronically homeless individuals. A person experiencing chronic homelessness is defined as an unaccompanied individual with a disabling condition who has been continuously homeless for a year or more or has experienced four or more episodes of homelessness over the last 3 years. A disabling condition is defined as a diagnosable substance abuse disorder, serious mental illness, developmental disability, or chronic physical illness or disability, including the co-occurrence of two or more of these conditions. Applicants are encouraged to target assistance to chronically homeless persons by undertaking activities that will result in:

(1) Creation of affordable housing units, supportive housing, and group homes;

(2) Establishment of a set-aside of units of affordable housing for the chronically homeless;

(3) Establishment of substance abuse treatment programs targeted to the homeless population;

(4) Establishment of job training programs that will provide opportunities for economic self-sufficiency;

(5) Establishment of counseling programs that assist homeless persons in finding housing, managing finances, managing anger, and building interpersonal relationships;

(6) Provision of supportive services, such as health care assistance, that will permit homeless individuals to become productive members of society; and

(7) Provision of service coordinators or one-stop assistance centers that will ensure that chronically homeless persons have access to housing assistance and a variety of social services.

Applicants that are developing programs to meet the goals set in this policy priority should keep in mind the requirements of the regulations implementing Section 504 of the Rehabilitation Act, in particular, 24 CFR 8.4(b)(1)(iv), 8.4(c)(1), and 8.4(d).

To receive the policy priority point, applicants must coordinate with the local Continuum of Care lead agency and propose work activities to fill the need already established by the local Continuum of Care. Applicants must include supporting documentation from the local Continuum of Care or member agency in their application and include specific tasks and projected outputs and outcomes. If selected for funding, applicants must compare the actual results against projected outcomes in accordance with the program NOFA reporting periods contained in the program NOFA.

Activities support strategic goals b and c.

f. Promoting Energy Star and Green Development. HUD is encouraging grantees to take specific energy-saving actions in furtherance of HUD's Energy Action Plan described in the August 2006 Report to Congress entitled: “Promoting Energy Efficiency at HUD in a Time of Change,” submitted under section 154 of the Energy Policy Act of 2005 (Pub. L. 109-58). (A copy of the report can be obtained at http://www.huduser.org/publications/destech/energyefficiency.html.) Under this policy priority, HUD is providing up to two policy priority points, as follows:

(1) Applicants/grantees that design, build, rehabilitate, or operate housing or community facilities.

(a) Energy Star Appliances and Products. Grantees that design, build, or operate housing or community facilities with funds awarded through HUD's NOFAs will receive one policy priority point if they incorporate energy-efficiency measures in the design, construction, and operation of these properties. To receive a point, grantees must meet the following criteria:

• Moderate rehabilitation and/or Building Operation and Maintenance: Use Energy Star-labeled appliances and products.

• New construction or substantial rehabilitation (single family): All units must be certified by a Home Energy Rater as an Energy Star Qualified Home; and all appliances must be Energy Star qualified.

• New construction or substantial rehabilitation (multifamily): Meet ASHRAE 90.1-2007 plus 20 percent (Appendix G) and appliances must be Energy Star qualified. A heat load analysis showing compliance with this standard must be completed by the project architect or engineer during the design phase of the project.

• Housing Counseling: Provide training on energy costs and budgeting, as well as energy efficient products and appliances, including Energy Star, in counseling curriculum.

(b) Green Development. HUD is also interested in promoting green building. Therefore, applicants that demonstrate they will undertake green development in the implementation of their program are eligible to receive one additional policy priority point for green development. This additional policy priority point for green development is available only to applicants that fulfill the requirements for use of Energy Star appliances and products above, plus undertake green development.

Green development means that one of several recognized green rating programs, including: the Energy Star Plus Indoor Air Package or Energy Star Advanced New Home Construction; Earthcraft; Enterprise Green Communities Initiative; the National Association of Home Builders (NAHB) Green Building Guidelines; Leadership in Energy and Environmental Design (LEED) for Homes (for single family); and LEED New Construction (for multifamily) is used in the design and construction of properties. For green programs that require third-party certification, the applicant must provide evidence of such certification. For green programs that require self-certification, the applicant must provide evidence of self-certification, such as the Enterprise Green Communities checklist. Applicants that elect to meet the requirements for Green Development will receive one policy priority point.

Applicants electing to meet these requirements must agree to use the HUD/PIH Benchmarking Tool at http://www.hud.gov/offices/pih/programs/ph/phecc/econserve.cfm to enter utility data for the first year after building occupancy, and report the results to HUD. The building would be expected to achieve a score of at least 65 (15 percent over average). For information on Energy Star Qualified Homes and Energy Star qualified products, see http://www.energystar.gov.

(2) Applicants/grantees that provide housing counseling, housing counseling training or community development technical assistance.

(a) Energy Star Appliances and Products. Applicants/grantees that receive funds for HUD's Housing Counseling, Housing Counseling Training, and Community Development Technical Assistance programs will receive policy priority points if, when providing counseling or training services or technical assistance, they include information on Energy Star appliances and products and information on the potential cost savings associated with buildings constructed using Energy Star standards.

(b) Green Development. Applicants/grantees that receive funds for HUD's Housing Counseling, Housing Counseling Training, and Community Development Technical Assistance programs will receive one additional policy priority point if, when providing counseling or training services or technical assistance, they provide information on Green Design, Development, and Certification Standards in addition to the Energy Star information in the preceding paragraph.

Activities support strategic goals a and b.

g. Promoting Assistance to Veterans.

HUD is interested in applicants who incorporate assistance to veterans in the development and implementation of their proposed program of activities. HUD will provide a policy priority point to applicants that provide assistance to veterans in their transition from military service to civilian life, by addressing veterans' needs for housing, community-based services, or job training and employment opportunities. To receive the policy priority point, applicants will have to identify specific activities that are targeted to veterans; the housing, community development, or economic development need being addressed; the number of veterans anticipated to be assisted; and the anticipated outcome that will result from the services provided. Applicants must provide projected number of veterans to be directly assisted, and the actual number of veterans receiving the assistance and what were the results of the services delivered in terms of the number of veterans provided housing, job training, jobs acquired, or social services received. Applicants selected for funding must compare actual results against projected outcomes in accordance with the program NOFA reporting periods contained in the program NOFA.

Activities support strategic goals c and d.

3. Threshold Compliance. Only applications that meet all of the threshold requirements will be eligible to receive an award of funds from HUD.

4. Corrections to Deficient Applications. After the application deadline, and in accordance with the electronic submission grace period described in this notice, HUD may not, consistent with its regulations in 24 CFR part 4, subpart B, consider any unsolicited information that an applicant may want to provide. HUD may contact an applicant to clarify an item in its application or to correct curable (correctable) technical deficiencies. HUD may not seek clarification of items or responses that improve the substantive quality of an applicant's response to any rating factors. In order not to unreasonably exclude applications from being rated and ranked, HUD may contact applicants to ensure proper completion of the application, and will do so on a uniform basis for all applicants.

Examples of curable (correctable) technical deficiencies include inconsistencies in the funding request, failure to submit the proper certifications, and failure to submit an application that contains a signature by an official able to make a legally binding commitment on behalf of the applicant. In the case of an applicant that received a waiver of the regulatory requirement to submit an electronic application, the technical deficiency may include failure to submit an application that contains an original signature. If HUD finds a curable deficiency in the application, HUD will notify the applicant in writing by describing the clarification or technical deficiency. HUD will notify applicants by e-mail, facsimile, or via the U.S. Postal Service, return receipt requested. Clarifications or corrections of technical deficiencies in accordance with the information provided by HUD must be submitted within 5 calendar days of the date of receipt of the HUD notification. (If the deadline date falls on a Saturday, Sunday, or federal holiday, the applicant's correction must be received by HUD on the next day that is not a Saturday, Sunday, or federal holiday.) In the case of electronic submissions to Grants.gov, any clarifications or cure items must be submitted electronically using the facsimile telephone number and form HUD-96011, Facsimile Cover Page, contained in the last application package submitted to HUD. The additional information will be matched to the electronic application in HUD's files. Applicants must follow the facsimile requirements found elsewhere in this notice. If the deficiency is not corrected within the above time frame, HUD will reject the application as incomplete, and it will not be considered for funding. In order to meet statutory deadlines for the obligation of funds or for timely completion of the review process, program NOFAs may reduce the number of days for submitting a response to a HUD request for clarification or correction to a technical deficiency. Please be sure to carefully read this notice and each program NOFA for any additional information and instructions. An applicant's response to a HUD notification of a curable deficiency should be submitted directly to HUD in accordance with the instructions provided in the notification.

5. Rating Panels. To review and rate applications, HUD may establish panels that may include persons not currently employed by HUD. HUD may include these non-HUD employees to obtain particular expertise and outside points of view, including views from other federal agencies. Persons brought into HUD to review applications are subject to conflict-of-interest provisions. In addition, reviewers using HUD IT systems may be subject to an IT security check.

6. Rating. HUD will evaluate and rate all applications for funding that meet the threshold requirements.

7. Ranking. HUD will rank applicants within each program or, for Continuum of Care applicants, across the three programs identified in the Continuum of Care NOFA. HUD will rank applicants against only those applying for the same program funding.

Where there are set-asides within a program competition, the applicant will compete against only those applicants in the same set-aside competition.

C. Anticipated Announcement and Award Dates

The individual program NOFAs will provide the applicable information regarding this subject.

VI. Award Administration Information

A. Award Notices

1. Negotiation. After it has rated and ranked all applications and made selections, HUD may require, depending upon the program, that a selected applicant participate in negotiations to determine the specific terms of the funding agreement and budget. In cases where HUD cannot successfully conclude negotiations with a selected applicant or a selected applicant fails to provide HUD with requested information, an award will not be made to that applicant. In such an instance, HUD may offer an award to, and proceed with negotiations with, the next highest-ranking applicant.

2. Adjustments to Funding.

a. To ensure the fair distribution of funds and enable the purposes or requirements of a specific program to be met, HUD reserves the right to fund less than the full amount requested in an application.

b. HUD will not fund any portion of an application that: (1) Is not eligible for funding under specific HUD program statutory or regulatory requirements; (2) does not meet the requirements of this notice; or (3) is duplicative of other funded programs or activities from prior year awards or other selected applicants. Only the eligible portions of an application (excluding duplicative portions) may be funded.

c. If funds remain after funding the highest-ranking applications, HUD may fund all or part of the next highest-ranking application in a given program. If an applicant turns down an award offer, HUD will make an offer of funding to the next highest-ranking application.

d. If funds remain after all selections have been made, remaining funds may be made available within the current fiscal year for other competitions within the program area or be held over for future competitions.

e. If, subsequent to announcement of awards made under the FY2009 NOFAs, additional funds become available either through a supplemental appropriation or recapture of funds during FY2009, HUD reserves the right to use the additional funding to provide full funding to an FY2009 applicant that was denied the requested amount of funds due to insufficient funds to make the full award, and/or to fund additional applicants that were eligible to receive an award but for which there were no funds available.

f. Individual program NOFAs may have other requirements, so please review the program NOFAs carefully.

3. Funding Errors. In the event HUD commits an error that, if corrected, would result in selection of an applicant during the funding round of a program NOFA, HUD may select that applicant for funding, subject to the availability of funds.

4. Performance and Compliance Actions of Funding Recipients. HUD will measure and address the performance and compliance actions of funding recipients in accordance with the applicable standards and sanctions of their respective programs.

5. Debriefing. For a period of at least 120 days, beginning 30 days after the awards for assistance are publicly announced, HUD will provide to a requesting applicant a debriefing related to its application. A request for debriefing must be made in writing or by email by the authorized official whose signature appears on the SF-424 or by his or her successor in office, and be submitted to the person or organization identified as the contact under the section entitled “Agency Contact(s)” in the individual program NOFA under which the applicant applied for assistance. Information provided during a debriefing will include, at a minimum, the final score the applicant received for each rating factor, final evaluator comments for each rating factor, and the final assessment indicating the basis upon which assistance was provided or denied.

B. Administrative and National Policy Requirements. See Section III.C. of this notice regarding related requirements.

C. Reporting

1. Use of a Logic Model to Report Performance. In FY2004, HUD began using as a planning tool the Logic Model submitted as part of NOFA applications. In FY2005, HUD required grant agreements to incorporate performance reporting against the approved Logic Model. In FY2006, HUD moved to standardized “master” Logic Models from which applicants can select needs, activities/outputs, and outcomes appropriate to their programs. In addition, program offices have identified Program Management Evaluation Questions that grantees will be required to report on, as specified in the approved program eLogic Model®. The time frame established for the Logic Model reporting will be in accordance with the program's established reporting periods and as stated in the program NOFA.

2. Placement of Approved Logic Models and Reports on HUD's Web site. It is HUD's intent to publish approved Logic Models and grantee progress reports submitted to HUD on its Grants Web site. Starting with awards made in FY2007, HUD established a Grants Performance page that features program performance ratings issued by OMB under its Program Assessment Rating Tool (PART) or its successor tool, for HUD programs that have been evaluated by OMB. HUD will also post all approved Logic Models that show each awardee's projected outputs and outcomes during the period of performance. As required performance reports are received by HUD, they will be added to the Web site. HUD is creating this Web site page to highlight and make available to the public performance and results from HUD-funded programs, in keeping with Executive Order 13392, issued December 14, 2005, and published in the Federal Register on December 19, 2005 (70 FR 75373). HUD believes that informing the public on progress is in keeping with presidential and congressional intent for transparency in federally funded programs, as demonstrated by the passage of the Federal Funding Accountability and Transparency Act of 2006 (Pub. L. 109-282), and creation of the federal Web sites http://www.ExpectMore.gov and http://www.Results.gov.

3. Return on Investment Statements. HUD also intends to propose Return on Investment (ROI) Statements for each of its competitive grant programs. Before finalizing ROI Statements for implementation, HUD will either offer incentive funding for applicants wishing to participate in developing an ROI as part of their grant program or HUD will publish the proposed ROI Statements for public comment. HUD believes the applicant/grantee community can greatly assist HUD in its attempt to place a value on the work done under the Department's grant programs. While HUD expects grantees to respond to the Management Evaluation Questions in their final reports, reporting on the ROI Statements is not mandatory at this time. As HUD finalizes ROI Statements for each program, they will be included in awards in the future. In FY2008, HUD offered ROI incentive funding in the Housing for Persons with AIDS (HOPWA) NOFA.

4. Logic Model Instructions. The Logic Model form (HUD-96010), a Microsoft Excel workbook, contains instructions in Tab 1 on how to use the form. The form or eLogic Model® incorporates a program-specific master list of statements of need, service, or activity/output(s) and their associated unit(s) of measure; and outcome(s) and their associated unit(s) of measure. Applicants will be required to click on a cell within a column. When you click on the cell, the drop-down button appears to the right of the cell. Applicants can then select the appropriate statement(s) to reflect their proposed program. Applicants can select multiple need(s) and services, or activities/outputs and outcomes, but each selection is entered in separate cells using the drop-down menu. The unit measure, whether for outputs or outcomes, may be a number or date. Applicants insert the expected number of units to be completed or achieved or date of achievement during the period of performance. In this manner, the applicant will build a custom Logic Model reflecting their program of activities. The custom Logic Model will link the need(s) to the activity/output(s), which in turn are linked to the result or expected outcome(s) tailored to each of HUD's programs.

5. Logic Model Format. The following briefly describes the format for the HUD Logic Model. Full instructions are contained in the Logic Model found in the Instructions Download for the program, on Grants.gov. For the Logic Model to work properly, you must enable the macros upon opening the file.

a. Each Logic Model has drop-down menus for HUD Strategic Goals and Policy Priorities, to eliminate applicant confusion over what letters and numbers to use for the goals and priorities and to improve data quality.

b. Tabs for Year 1, Year 2, and Year 3 activities, as well as a tab for Total, are provided in each Logic Model. HUD found that applicants within a program had varying opinions or interpretations on time frames for short, intermediate, and long term and that the use of clearly defined time frames eliminated the varying interpretations and provided for better quality data. In response to grantee requests, in FY2008, HUD added a column labeled YTD (Year-To-Date), which represents cumulative totals per year to each reporting period for results achieved. The column allows grantees to see immediately what they have achieved during the reporting period, what they have achieved as they progress throughout the year, what they have achieved on a cumulative basis each reporting year, and what they have achieved during the period of award. The total tab allows for cumulative projected and final results to be shown covering all years of the period of performance. Applicants with a one-year period of performance only have to complete the Year 1 tab, since the total results will all occur in the one-year award period. When reporting, be sure to show noncumulative data in the past column and cumulative date in the YTD column. In 2008, HUD also increased the number of rows in each Logic Model Worksheet to allow applicants to skip a row between groups of activities so they could better demonstrate the relationship between the activity(ies) and the expected outcomes.

c. For the grantees' convenience and to call attention to the requirements, the Logic Model form contains reporting instructions. The instructions ask applicants to identify in their reports to HUD where actual results deviated from projected results—either positively or negatively. The Reporting Instruction tab includes a text field in which grantees can report any deviations, as well as their responses to the management questions. While the reporting tab does not add additional burden hours to the information collection, HUD believes that having the reporting tab in the form assists the applicant in completing their Logic Model and provides for better quality Logic Models and reporting to HUD. HUD will continue to review data received via eLogic Model® in 2008 and would like to thank the applicant/grantee community for their recommendations and insights.

In FY2009, HUD added fields for the applicant's DUNS number and project location. These data elements make it easier to place logic models on HUD's Web site and find application logic models by location. In FY2009, to provide for greater consistency in reporting, applicants must include all activities and outcomes expected each year of the period of performance. Applicants should carefully review the program NOFA for required outputs and outcome selections, because some of the program NOFAs define what must, at a minimum, be included in the Logic Model.

6. In FY2009, grantees must adhere to the following reporting principles:

a. An evaluation process will be part of the ongoing management of the HUD-funded award;

b. Comparisons will be made between projected and actual numbers for outputs and outcomes;

c. Deviations from projected outputs and outcomes will be documented and explained as part of required reporting; and

d. Data will be analyzed to determine the relationship of outputs to outcomes, to determine which outputs produce which outcomes and which are most effective.

As stated above, in FY2007, HUD required each program to establish a set of Program Management Evaluation Questions for grantee reporting. Grantees must use these questions to self-evaluate the management and performance of their program. HUD is continuing this practice in FY2009. In developing the Program Management Evaluation Questions for the Master Logic Model, HUD trained its program managers on the Carter-Richmond Methodology, a critical thinking process that identifies key management and evaluation questions for HUD's programs. The following table identifies the Carter-Richmond generic questions and where the source data is found in the Logic Model.

Carter-Richmond Methodology: ¹ Building Blocks for Effective Management
Management questions | Logic model columns for source data
1. How many clients are you serving? | Service/Activity/Output.
2. How many units were provided? | Service/Activity/Output.
3. Who are you serving? | Service/Activity/Output.
4. What services do you provide? | Service/Activity/Output.
5. What does it cost? | Service/Activity/Output.
6. What does it cost per service delivered? | Service/Activity/Output/Evaluation.
7. What happens to the “subjects” as a result of the service? ² | Outcome.
8. What does it cost per outcome? | Outcome and Evaluation.
9. What is the value of the outcome? | Outcome and Evaluation.
10. What is the return on investment? | Evaluation.
¹ “The Accountable Agency—How to Evaluate the Effectiveness of Public and Private Programs,” Reginald Carter, ISBN Number 9780978724924.
² The subject can be a client or a unit, such as a building, and is defined in its associated unit of service.

As a result of this training, each program has developed specific Program Management Evaluation Questions tailored to the statutory purpose of each of their programs. Each program NOFA will require applicants to address these questions based upon the Carter-Richmond Methodology in their reports to HUD. The program NOFA Logic Models will identify the particular questions to be addressed that relate to the statutory purpose and intent of each program. In FY2008, the Management Questions were developed as a Microsoft Excel table which formats the question as a data element and the response to the question as a data element. By creating this table, grantees when reporting can enter the response to the management questions in the data field provided, thus allowing the management question responses to be placed in the Logic Model database for further analysis.

Training on HUD's Logic Model and on the reporting requirements for addressing the Program Management Evaluation Questions will be provided via satellite broadcast. The training will also provide examples of how to construct the Logic Model using the drop-down lists in the eLogic Model®. Training materials and the dates for the training will be on HUD's Web site at http://www.hud.gov/offices/adm/grants/fundsavail.cfm. In addition, each program NOFA broadcast will address the specific questions and reporting requirements for the specific program.

Applicants should submit the completed Logic Model as an attachment to their application, in accordance with the directions in the program NOFA for addressing the factors for award. Each program NOFA will identify if it requires the factors for award, including the Logic Model that is required as part of the application submission, to be submitted as a single attached file or as separate files. Please follow the program NOFA directions. When opening the eLogic Model® enable the Macros. Do not convert the file to PDF format. Save the file in the format you opened it. Grants.gov can now accept Microsoft Office 2007 files and HUD can read both Microsoft Office 2003 and Microsoft Office 2007 files.

After being selected for funding and awarded funds, grantees will be required to submit a completed form HUD-96010, Logic Model, indicating results achieved against the proposed output(s) and proposed outcome(s) stated in the grantee's approved application and agreed to by HUD. The Logic Model and required management questions must be submitted to HUD in accordance with the reporting periods identified in each program NOFA for providing reports to HUD.

7. Use of Form HUD-27061, Race and Ethnic Data Reporting Form, to Report Race and Ethnicity Data for Beneficiaries of HUD Programs. HUD requires grantees that provide HUD program benefits to individuals or families to report data on the race and ethnicity of those receiving such benefits. Grantees that provide benefits to individuals during the period of performance, whether directly, through subrecipients, or through contractual arrangements, must report the data using form HUD-27061, Race and Ethnic Data Reporting Form, on Grants.gov. The form is a data collection based on the standards published by OMB on August 13, 2002. The individual program NOFAs will identify applicable reporting requirements related to each program. Applicants reporting to HUD using an online system can use that system to meet this requirement, provided that the data elements and reports derived from the system are equivalent to the data collection in the form HUD-27061. For programs where race and ethnicity reporting is required, copies of form HUD-27061 will be included in the Instructions Download portion of the application posted to Grants.gov.

8. Frequency of Reports and Data Consistency.

a. Logic Model Reporting. When submitting eLogic Model® reports on a quarterly, semiannual, or annual basis, each report should show the results that occurred during that reporting period. All final reports should provide a final eLogic Model® performance for the entire period of the award. See instructions in the eLogic Model® on how to label files when reporting. When reporting, be sure to show noncumulative data in the past column and cumulative data in the YTD column.

b. Race and Ethnic Data Report. When submitting the Race and Ethnic Data Reporting Form (HUD-27061) on a quarterly or semiannual basis, each reporting period should show the results that occurred during the performance period for all active clients. If a multiyear program is funded, then each annual report should show results that occurred during that performance year for all active clients. A final form HUD-27061 should show results for all active clients for the entire period of performance.

VII. Agency Contact(s)

The individual program NOFAs will identify the applicable agency contacts related to each program. Questions regarding this notice should be directed to the NOFA Information Center between the hours of 10 a.m. and 6:30 p.m. eastern time at 800-HUD-8929. Persons with hearing or speech impairments may access this number via TTY by calling the Federal Information Relay Service at 800-877-8339. (These are toll-free numbers.) Questions regarding specific program requirements should be directed to the agency contacts identified in each program NOFA.

VIII. Other Information

A. Public Law 106-107, Streamlining Activities and Grants.gov. The Federal Financial Assistance Management Improvement Act of 1999 (Pub. L. 106-107) directed each federal agency to develop and implement a plan that, among other things, streamlines and simplifies the application, administrative, and reporting procedures for federal financial assistance programs administered by the agency. This law also required the Director of OMB to direct, coordinate, and assist federal agencies in establishing: (1) A common application and reporting system and (2) an interagency process for addressing ways to streamline and simplify federal financial assistance application and administrative procedures, as well as reporting requirements for program applicants. Over the last several years, the intergovernmental work groups tasked with the implementation of Public Law 106-107 have been engaged in various streamlining activities that are now being shared with the grantee community for their input prior to being implemented across the federal government. Public Law 106-107 sunset in 2008. Despite the sunset of the law, federal agencies are still working to simplify and streamline their application and submission requirements. Applicants and grantees are urged to participate in the broadcasts sponsored by the Grants Policy Committee and the federal government work groups to become familiar with the proposed changes to simplify requirements, at http://www.gpc.gov.

B. Grants.gov. The Grants.gov initiative focuses on allowing the public to easily FIND competitive funding opportunities and then APPLY for grant funding electronically via Grants.gov. In FY2004, HUD posted all of its funding opportunities, with the exception of Continuum of Care, at http://www.grants.gov/applicants/find_grant_opportunities.jsp and has continued to do so through FY2009. In addition, Grants.gov is working with federal agencies to begin the process of accepting mandatory and formula grant program plans and application submissions online via Grants.gov. Applicants for HUD's formula and competitive programs are urged to become familiar with the Grants.gov website, registration procedures, and electronic submissions so that, as the website is expanded, applicants will be registered and familiar with the find-and-apply functionality. The Grants.gov Internet address for Finding Grant Opportunities is http://www.grants.gov/applicants/find_grant_opportunities.jsp. The Grants.gov Internet address for Applying for Grant Opportunities is http://www07.grants.gov/applicants/apply_for_grants.jsp.

C. HUD-IRS Memorandum of Agreement. HUD and the IRS have entered into a memorandum of agreement to provide information to HUD grantees serving low-income, disabled, and elderly persons, as well as persons with limited English proficiency, on the availability of low-income housing tax credits, the earned income tax credit, individual development accounts, child tax credits, and the IRS Voluntary Income Tax Assistance program. HUD is making available on its website information on these IRS asset-building resources. HUD encourages you to visit the website and disseminate this information to low-income residents in your community and other organizations that serve low-income residents, so that eligible individuals can take advantage of these resources.

D. Paperwork Reduction Act Statement. The information collection requirements in this notice have been approved by OMB under the Paperwork Reduction Act of 1995 (44 U.S.C. 3501-3520). In accordance with the Paperwork Reduction Act, HUD may not conduct or sponsor, and a person is not required to respond to, a collection of information, unless the collection displays a valid OMB control number. Each program NOFA will identify its applicable OMB control number.

E. Environmental Impact. A Finding of No Significant Impact with respect to the environment has been made for this notice, in accordance with HUD regulations at 24 CFR part 50 that implement Section 102(2)(C) of the National Environmental Policy Act of 1969 (42 U.S.C. 4332(2)(C)). As program NOFAs are issued, each will provide a statement regarding Environmental Impact. The Finding of No Significant Impact for this notice is available for public inspection between 8 a.m. and 5 p.m. eastern time, Monday through Friday, except federal holidays, in the Office of General Counsel, Regulations Division, Department of Housing and Urban Development, 451 7th Street, SW., Room 10276, Washington, DC 20410-0500.

F. Executive Orders and Congressional Intent

1. Executive Order 13132, Federalism. Executive Order 13132 prohibits, to the extent practicable and permitted by law, an agency from promulgating policies that have federalism implications and either impose substantial direct compliance costs on state and local governments and are not required by statute, or preempt state law, unless the relevant requirements of Section 6 of the executive order are met. This notice does not have federalism implications and does not impose substantial direct compliance costs on state and local governments or preempt state law within the meaning of the executive order.

2. American-made Products. Sections 708 and 709 of the Transportation, Treasury, Housing and Urban Development, the Judiciary, and Independent Agencies Appropriations Act, 2006 (Pub. L. 109-115; approved Nov. 30, 2005), states that, to the greatest extent practicable, all equipment and products purchased with funds made available should be made in the United States.

3. Eminent Domain. In accordance with Division K, Title IV (General Provisions), Section 411 of the Consolidated Appropriations Act, 2008 (Pub. L. 110-161, approved December 26, 2007), no funds made available in FY2008 may be used to support any federal, state, or local projects that seek to use the power of eminent domain, unless eminent domain is employed only for a public use. This limitation also applied to FY2007 appropriated funds. In FY2009, this limitation may apply, subject to the language in HUD's final approved appropriation act.

Based upon language in previous appropriations, for purposes of this provision, public use shall not be construed to include economic development that primarily benefits private entities.

Further, any use of funds for mass transit, railroad, airport, seaport, or highway projects, as well as utility projects which benefit or serve the general public (including energy-related, communication-related, water-related, and wastewater-related infrastructure), other structures designated for use by the general public or which have other common-carrier or public-utility functions that serve the general public and are subject to regulation and oversight by the government, and projects for the removal of an immediate threat to public health and safety or brownfields, as defined in the Small Business Liability Relief and Brownfields Revitalization Act (Pub. L. 107-118), shall be considered a public use for purposes of eminent domain.

G. Public Access, Documentation, and Disclosure. Section 102 of the Department of Housing and Urban Development Reform Act of 1989 (HUD Reform Act) (42 U.S.C. 3545) and the regulations codified at 24 CFR part 4, subpart A, contain a number of provisions that are designed to ensure greater accountability and integrity in the provision of certain types of assistance administered by HUD. On January 14, 1992, HUD published a notice that also provides information on the implementation of section 102 (57 FR 1942). The documentation, public access, and disclosure requirements of section 102 apply to assistance awarded under individual NOFAs published as described below.

1. Documentation, Public Access, and Disclosure Requirements. HUD will ensure that documentation and other information regarding each application submitted pursuant to its FY2009 NOFAs are sufficient to indicate the basis upon which assistance was provided or denied. This material, including any letters of support, will be made available for public inspection for a 5-year period beginning not less than 30 days after the award of the assistance. Material will be made available in accordance with the Freedom of Information Act (5 U.S.C. 552) and HUD's implementing regulations (24 CFR part 15).

2. Form HUD-2880, “Applicant/Recipient Disclosure/Update Report” (“HUD Applicant Recipient Disclosure Report” on Grants.gov). HUD will also make available to the public, for 5 years, all applicant disclosure reports (form HUD-2880) submitted in connection with an FY2009 NOFA. Update reports (also reported on form HUD-2880) will be made available along with the applicant disclosure reports, but in no case for a period of less than 3 years. All reports, both applicant disclosures and updates, will be made available in accordance with the Freedom of Information Act (5 U.S.C. 552) and HUD's implementing regulations (24 CFR part 5).

3. Publication of Recipients of HUD Funding. HUD's regulations at 24 CFR part 4 provide that HUD will publish a notice in the Federal Register to notify the public of all funding decisions made by the Department to provide:

a. Assistance subject to Section 102(a) of the HUD Reform Act; and

b. Assistance provided through grants or cooperative agreements on a discretionary (non-formula, non-demand) noncompetitive basis.

H. Section 103 of the HUD Reform Act. HUD's regulations implementing section 103 of the HUD Reform Act, codified at 24 CFR part 4, subpart B, apply to this funding competition. The regulations continue to apply until the announcement of the selection of successful applicants.

HUD employees involved in the review of applications and in the making of funding decisions are prohibited by the regulations from providing advance information to any person (other than an authorized employee of HUD) concerning funding decisions or from otherwise giving any applicant an unfair competitive advantage. Persons who apply for assistance should confine their inquiries to the subject areas permitted under 24 CFR part 4.

Applicants or employees who have ethics-related questions should contact the HUD Ethics Law Division at 202-708-3815 (this is not a toll-free number). The toll-free TTY number for persons with speech or hearing impairments is 800-877-8339. HUD employees who have specific program questions should contact the appropriate field office counsel or Headquarters counsel for the program to which the question pertains.

BILLING CODE 4210-67-P

Instructions

A maximum of 10 points are assigned for evaluating and scoring the logic model.

The Logic Model Assessment Matrix identifies the four components that are to be evaluated when scoring the logic model:

• Row—1—Services.

• Row—2—Outcomes.

• Row—3—Projections.

• Row—4—Evaluation Tools.

There are four possible conditions that describe each component represented by the labels (three conditions for the Evaluation component):

• Excellent.

• Good.

• Marginally Satisfactory.

• Unacceptable.

When reviewing and scoring the logic model, HUD reviewers will choose the one statement in each of the four rows (services, outcomes, projections, evaluation tools) that best describes your evaluation of the logic model and add the assigned points to obtain a total score.

[FR Doc. E8-30600 Filed 12-24-08; 8:45 am]

BILLING CODE 4210-67-C